DEPARTMENT OF THE INTERIOR

Bureau of Indian Affairs

Indian Child Welfare Act; Receipt of Designated Tribal Agents for Service of Notice

AGENCY: Bureau of Indian Affairs, Interior.

ACTION: Notice.

SUMMARY: The Bureau of Indian Affairs is publishing the current list of Designated Tribal Agents for service of notice, including the listings of designated tribal agents received by the Secretary of the Interior prior to the date of this publication.

The regulations implementing the Indian Child Welfare Act provide that Indian tribes may designate an agent other than the tribal chairman for service of notice proceedings under the Act, 25 CFR 23.12. The Secretary of the Interior shall publish in the Federal Register on an annual basis the names and addresses of the designated agents.

FOR FURTHER INFORMATION CONTACT: Chet Eagleman, Indian Child Welfare Specialist, Bureau of Indian Affairs, Division of Social Services, 1849 C Street, NW., MS-4660-MIB, Washington, DC 20240; Phone: (202) 208-7776.

This notice is published in exercise of authority delegated by the Secretary of the Interior to the Assistant Secretary—Indian Affairs by 209 Departmental Manual 8.1.

Dated: December 11, 2001.
Neal A. McCaleb,
Assistant Secretary—Indian Affairs.

Indian Child Welfare Designated Agents

Alaska Region

Niles Cesar, Regional Director, Alaska Regional Office, P.O. Box 25520, 709 W. 9th, 3rd Floor, Federal Building, Juneau, AK 99802-5520; Phone: (800) 645-8397; Fax: (907) 586-7252.

Gloria Kate Gorman, M.S.W., Social Services Director, P.O. Box 25520, 709 W. 9th, 3rd Floor, Federal Building, Juneau, AK 99802-5520; Phone: (800) 645-8397 Ext. 2; Fax: (907) 586-7057; Email: gloriagorman@bia.gov.

A

Native Village of Afognak, Sharon Olson, P.O. Box 968, Kodiak, AK 99615; Phone: (907) 486-6357; Fax: (907) 486-6529.

Agdaagux Tribe of King Cove, Grace Smith, Aleutian/Pribilof Islands Assoc., 201 E. 3rd Ave., Anchorage, AK 99501; Phone: (907) 222-4237/2700; Fax: (907) 279-4351.

Native Village of Akhiok, Melissa Borton, Kodiak Area Native Association, 3449 E. Rezanof Drive, Kodiak, AK 99615; Phone: (907) 486-9800; Fax: (907) 486-9886.

Native Community of Akiachak, Fritz George, P.O. Box 51070, Akiachak, AK 99551-0070; Phone: (907) 825-4626; Fax: (907) 825-4029.

Akiak Native Community, Debra M. Jackson or Ivan M. Ivan, P.O. Box 52127, Akiak, AK 99552; Phone: (907) 765-7118; Fax: (907) 765-7120.

Native Village of Akutan, Grace Smith, Aleutian/Pribilof Islands Association, 201 E. 3rd Ave., Anchorage, AK 99501; Phone: (907) 222-4237/2700; Fax: (907) 279-4351.

Native Village of Alakanuk, Agnes Phillip, P.O. Box 149, Alakanuk AK, 99554-0103; Phone: (907) 238-3704; Fax: (907) 238-3429 also Joan Dewey, ICWA Social Worker, Association of Village Council Presidents, P.O. Box 219, Bethel, AK 99559; Phone: (907) 543-7367; Fax: (907) 543-7319.

Alatna Village, Harding Sam, Chief, P.O. Box 70, Allakaket, AK 99720; Phone: (907) 968-2304; Fax: (907) 968-2305 and Director of Social Services, Tanana Chiefs Conference, Inc., 122 First Avenue, Suite 600, Fairbanks, AK 99701; Phone: (907) 452-8251; Fax: (907) 459-3883/3851.

Native Village of Aleknagik, Tribal President, P.O. Box 115, Aleknagik, AK 99555, Phone: (907) 842-2080; Fax: (907) 842-2081 and Lou Johnson, Social Services Director, Bristol Bay Native Association, P.O. Box 310, Dillingham, AK 99576; Phone: (907) 842-4139; Fax: (907) 842-4106.

Native Village of Algaaciq (St. Mary's), Esther Tyson, P.O. Box 48, St. Mary's, AK 99658-0048; Phone: (907) 438-2335; Fax: (907) 438-2227 and Joan Dewey, ICWA Social Worker, Association of Village Council Presidents, P.O. Box 219, Bethel, AK 99559; Phone: (907) 543-7367; Fax: (907) 543-7319.

Allakaket Village, Director of Social Services, Tanana Chiefs Conference, Inc., 122 First Avenue, Suite 600, Fairbanks, AK 99701; Phone: (907) 452-8251; Fax: (907) 459-3883/3851.

Native Village of Ambler, ICWA Coordinator, Box 47, Ambler, AK 99786-0047; Phone: (907) 445-2180; Fax: (907) 445-2181.

Village of Anaktuvuk Pass, Sharon Thompson, Arctic Slope Native Assoc., Social Services, P.O. Box 1232, Barrow, AK 99723; Phone: (907) 852-2762; Fax: (907) 852-2105.

Yupiit of Andreafski, Elizabeth M. Joe, P.O. Box 88, St. Mary's, AK 99658-0088; Phone: (907) 438-2572; Fax: (907) 438-2512.

Angoon Community Association, Marlene Zuboff, P.O. Box 190, Angoon, AK 99820; Phone: (907) 788-3411; Fax: (907) 788-3412.

Native Village of Aniak, Ruth Birky, Box 349, Aniak, AK 99557; Phone: (907) 675-4349; Fax (907) 675-4513.

Native Village of Anvik, Director of Social Services, Tanana Chiefs Conference, Inc., 122 First Avenue, Suite 600, Fairbanks, AK 99701; Phone: (907) 452-8251; Fax: (907) 459-3883/3851.

Native Village of Arctic Village, (See Native Village of Venetie Tribal Government).

Asa'Carsarmiut Tribe (formerly Mt. Village), Mel Lawrence, P.O. Box 32249, Mountain Village, AK 99632-2249; Phone: (907) 591-2814; Fax: (907) 591-2811.

Native Village of Atka, Grace Smith, Aleutian/Pribilof Islands Assoc., 201 E. 3rd Avenue, Anchorage, AK 99501; Phone: (907) 222-4237; Fax: (907) 279-4351.

Atmautluak Traditional Council, Josephine Frye, P.O. Box 6568, Atmautluak, AK 99559; Phone: (907) 553-5610; Fax: (907) 553-5216.

Native Village of Atqasuk Village, Sharon Thompson, Arctic Slope Native Assoc., Social Services, P.O. Box 1232, Barrow, AK 99723; Phone: (907) 852-2762; Fax: (907) 852-2105.

B

Native Village of Barrow, ICWA Program, P.O. Box 1130, Barrow, AK 99723; Phone: (907) 852-8906/4411; Fax: (907) 852-8844.

Native Village of Beaver Village, Director of Social Services, Tanana Chiefs Conference, Inc., 122 First Avenue, Suite 600, Fairbanks, AK 99701; Phone (907) 452-8251; Fax: (907) 452-3883/3851.

Native Village of Belkosfski, Grace Smith, Aleutian/Pribilof Islands Assoc., 201 E. 3rd Avenue, Anchorage, AK 99501; Phone: (907) 222-4237; Fax: (907) 279-4351.

Bethel Village, (See Orutsararmuit).

Village of Bill Moore's Slough, Nancy Andrews, P.O. Box 20288, Kotlik, AK 99620; Phone: (907) 899-4236; Fax: (907) 899-4461.

Village of Birch Creek, Director of Social Services, Tanana Chiefs Conference, Inc., 122 First Avenue, Suite 600, Fairbanks, AK 99701; Phone: (907) 452-8251; Fax: (907) 459-3883/3851.

Native Village of Brevig Mission, Dick Kugzruk, President, P.O. Box 85039, Brevig Mission, AK 99785; Phone: (907) 642-4301; Fax: (907) 642-2099.

Native Village of Buckland, Flora Dorcas Swan, ICWA Coordinator, P.O. Box 67, Buckland, AK 99727-0067; Phone: (907) 494-2169; Fax: (907) 494-2217.

C

Native Village of Cantwell, Angel Craig, Copper River Native Assoc., P.O. Box H, Copper Center, AK 99573; Phone: (907) 822-5241 x 243; Fax: (907) 822-8801.

Chalkyitsik Village Council, Director of Social Services, Tanana Chiefs Conference, Inc., 122 First Avenue, Suite 600, Fairbanks, AK 99701; Phone: (907) 452-8251; Fax: (907) 459-3883/3851.

Chefornak Traditional Council, Edward Kinegak, P.O. Box 110, Chefornak, AK 99561-0110; (907) 867-8808; Fax: (907) 867-8711 and Joan Dewey, ICWA Social Worker, Association of Village Council Presidents, P.O. Box 219, Bethel, AK 99559; Phone: (907) 543-7367; Fax: (907) 543-7319.

Native Village of Chenega, Michael Vigil, P.O. Box 8079, Chenega Bay, AK 99574; Phone: (907) 573-5132 and Paula Pinder, Chugachmiut, Inc., 4201 Tudor Centre Drive, Suite 210, Anchorage, AK 99508; Phone: (907) 562-4155; Fax: (907) 563-2891.

Native Village of Chevak (AKA Kashunamiut Tribe), Esther Friday, ICWA Worker, P.O. Box 140, Chevak, AK 99563-0140; Phone: (907) 858-7252; Fax: (907) 858-7812.

Native Village of Chickaloon, Delia R. Commander, P.O. Box 1105, Chickaloon, AK 99674-1105; Phone: (907) 745-0707; Fax: (907) 745-7154.

Native Village of Chignik, Tribal President, P.O. Box 11, Chignik Bay, AK 99564; Phone: (07) 749-2245; Fax: (907) 749-2423 and Lou Johnson, Bristol Bay Native Association, Social Services, P.O. Box 310, Dillingham, AK 99576; Phone: (907) 842-4139; Fax: (907) 842-4106.

Native Village of Chignik Lagoon, Tribal President, P.O. Box 57, Chignik Lagoon, AK 99565, Phone: (907) 840-2281; Fax: (907) 840-2217 and Lou Johnson, Bristol Bay Native Association, Social Services, P.O. Box 310, Dillingham, AK 99576; Phone: (907) 842-4139; Fax: (907) 842-4106.

Chignik Lake Village, Tribal President, P.O. Box 33, Chignik Lake, AK 99548; Phone: (907) 845-2212; Fax: (907) 845-2217 and Lou Johnson, Bristol Bay Native Association, Social Services, P.O. Box 310, Dillingham, AK 99576; Phone: (907) 842-4139; Fax: (907) 842-4106.

Chilkat Indian Village (Klukwan), Denise Kahklen or Anna Stevens, P.O. Box 210, Haines, AK 99827-0210; Phone: (907) 767-5517; Fax: (907) 767-5408.

Chilkoot Indian Association (Haines), Jan Hill, P.O. Box 490, Haines AK 99827; Phone: (907) 776-2323; Fax: (907) 776-2365.

Chinik Eskimo Community (Golovin), Sherri Lewis-Amaktoolik, Tribal Family Coordinator, P.O. Box 62020, Golovin, AK 99762; Phone: (907) 779-2214/2238; Fax: (907) 779-2829.

Native Village of Chistochina, Lotha Wolf, P.O. Box 241, Gakona, AK 99586-0241; Phone: (907) 822-3503; Fax: (907) 822-5179.

Native Village of Chitina, Arleen Leonard, Social Services, P.O. Box 31, Chitina, AK 99566-0031; Phone: (907) 823-2215; Fax: (907) 823-2233.

Native Village of Chuathbaluk, Sophie B. Alexie, ICWA Coordinator, P.O. Box CHU, Chuathbaluk, AK 99557; Phone: (907) 467-4323; Fax: (907) 467-4113.

Native Village of Chuloonawick, Stan Jimmy, Box 126, Emmonak, AK 99581; Phone: (907) 949-1345; Fax: (907) 949-1346.

Circle Native Community, Director of Social Services, Tanana Chiefs Conference, Inc., 122 First Avenue, Suite 600, Fairbanks, AK 99701; Phone: (907) 452-8251; Fax: (907) 459-3883/459-3851.

Village of Clarks Point, Betty Gardiner Wassily, P.O. Box 70, Clarks Point, AK 99569; Phone: (907) 236-1286; Fax: (907) 236-1449 and Lou Johnson, Bristol Bay Native Association, Social Services, P.O. Box 310, Dillingham, AK 99576; Phone: (907) 842-4139; Fax: (907) 842-4106.

Native Village of Council, President, P.O. Box 2050, Nome, AK 99762; Phone: (907) 443-7649; Fax: (907) 443-5965.

Craig Community Association, Family Caseworker, P.O. Box 828, Craig AK 99921; Phone: (907) 826-3948; Fax: (907) 826-5526.

Village of Crooked Creek, Bedusha Thomas, P.O. Box 69, Crooked Creek, AK 99575; Phone: (907) 432-2261; Fax: (907) 432-2247 and Joan Dewey, ICWA Social Worker, Association of Village Presidents, P.O. Box 219, Bethel, AK 99559; Phone: (907) 543-7367; Fax: (907) 543-7319.

Curyung Tribal Council (formerly, Native Village of Dillingham), Anna Mae Miller or Chris Itumulria, Tribal Children Service Worker, P.O. Box 216, Dillingham, AK 99576; Phone: (907) 842-2384/4508; Fax: (907) 842-4510 and Lou Johnson, Bristol Bay Native Association, Social Services, P.O. Box 310, Dillingham, AK 99576; Phone: (907) 842-4139; Fax: (907) 842-4106.

D

Native Village of Deering, Roberta Moto, ICWA Coordinator, P.O. 89, Deering, AK 99736-0089; Phone: (907) 363-2138; Fax: (907) 363-2195.

Dillingham, (See Curyung).

Native Village of Diomede, Charles Menadelook, P.O. Box 7079, Diomede, AK 99762; Phone: (907) 686-2202; Fax: (907) 686-2255.

Village of Dot Lake, William Miller, P.O. Box 2279, Dot Lake, AK 99737-2275; Phone: (907) 882-2695; Fax: (907) 882-5558.

Douglas Indian Association, Jocelyn K. Marks, Human Services Director, P.O. Box 240541, Douglas, AK 99824; Phone: (907) 364-2916; Fax: (907) 364-2917.

E

Native Village of Eagle, Joann Beck, P.O. Box 159, Eagle, AK 99738; Phone: (907) 547-2281; Fax: (907) 547-2318.

Native Village of Eek, Maryann Hawk, P.O. Box 63, Eek, AK 99578-0063; Phone: (907) 536-5572; Fax: (907) 536-5711 and Joan Dewey, ICWA Social Worker, Association of Village Council Presidents, P.O. Box 219, Bethel, AK 99559; Phone: (907) 543-7367; Fax: (907) 543-7319.

Egegik Village, Tribal President, P.O. Box 29, Egegik, AK 99579; Phone: (907) 233-2211; Fax: (907) 233-2312 and Lou Johnson, Bristol Bay Native Assoc., Social Services, P.O. Box 310, Dillingham, AK 99576; Phone: (907) 842-4139; Fax: (907) 842-4106.

Native Village of Eklutna, Mary Paniyak, 26339 Eklutna Village Rd., Chugiak, AK 99567; Phone: (907) 688-6020; Fax: (907) 688-6021.

Native Village of Ekuk, Tribal President, 300 Main St. Dillingham, AK 99576; Phone: (907) 842-3842; Fax: (907) 842-3843 and Lou Johnson, Bristol Bay Native Assoc., Social Services, P.O. Box 310, Dillingham, AK 99576; Phone: (907) 842-4139; Fax: (907) 842-4106.

Ekwok Village, Tribal President, P.O. Box 70, Ekwok, AK 99580; Phone: (907) 464-3336; Fax: (907) 464-3378 and Lou Johnson, Bristol Bay Native Association, Social Services, P.O. Box 310, Dillingham, AK 99576; Phone: (907) 842-4139; Fax: (907) 842-4106.

Native Village of Elim, Frederick Murray, P.O. Box 39070, Elim, AK 99739; Phone: (907) 890-3737; Fax: (907) 890-3738.

Emmonak Village, Priscilla Kameroff, ICWA Coordinator, P.O. Box 126, Emmonak, AK 99581-0126; Phone: (907) 949-1820; Fax: (907) 949-1384.

Evansville Village, Director of Social Services, Tanana Chiefs Conference, Inc., 122 First Avenue, Suite 600, Fairbanks, AK 99701; Phone: (907) 452-8251; Fax: (907) 459-3883/3851.

Native Village of Eyak (Cordova), Wendi Smith, P.O. Box 1388, Cordova, AK 99574; Phone: (907) 424-7738; Fax: (907) 424-7739.

F

Native Village of False Pass, Grace Smith, Aleutian/Pribilof Islands, 201 E. 3rd Avenue, Anchorage, AK 99501; Phone: (907) 222-4237; Fax: (907) 279-4351.

Native Village of Fort Yukon, Director of Social Services, Tanana Chiefs Conference, Inc., 122 First Avenue, Suite 600, Fairbanks, AK 99701; Phone: (907) 452-8251; Fax: (907) 452-3883/3851.

G

Native Village of Gakona, Angel Craig, Social Services, Copper River Native Assoc., P.O. Box H, Copper Center, AK 99573; (907) 822-5241 x243; Fax: (907) 822-8801.

Galena Village (Louden), Ragine Ahla, Tribal Administrator, P.O. Box 244, Galena, AK 99741; Phone: (907) 656-1711; Fax: (907) 656-1716.

Native Village of Gambell, Charlene Apangalook, ICWA Coordinator, P.O. Box 90, Gambell, AK 99742; Phone: (907) 985-5346: Fax: (907) 985-5014.

Native Village of Georgetown, Glenn Fredericks, President, 1400 Virginia Ct., Anchorage, AK 99501; Phone: (907) 274-2195; Fax: (907) 274-2196.

Native Village of Goodnews Bay, Karen Martin, P.O. Box 138, Goodnews Bay, AK 99589-0050; Phone: (907) 967-8050; Fax: (907) 967-8051 and Joan Dewey, ICWA Social Worker, Association of Village Council Presidents, P.O. Box 219, Bethel, AK 99559; Phone: (907) 543-7367; Fax: (907) 543-7319.

Organized Village of Grayling, Director of Social Services, Tanana Chiefs Conference, Inc., 122 First Avenue, Suite 600, Fairbanks, AK 99701; Phone: (907) 452-8251; Fax: (907) 459-3883/3851.

Gulkana Village, LaMonica Claw, P.O. Box 254, Gakona, AK 99586-0254; Phone: (907) 822-3746; Fax: (907) 822-3976.

H

Native Village of Hamilton, Henrietta Teeluk, P.O. Box 20248, Kotlik, AK 99620; Phone: (907) 899-4252; Fax: (907) 899-4202 and Joan Dewey, ICWA Social Worker, Association of Village Council Presidents P.O. Box 219, Bethel, AK 99559; Phone: (907) 543-7367 Fax: (907) 543-7319.

Healy Lake Village, Director of Social Services, Tanana Chiefs Conference, Inc., 122 First Avenue, Suite 600, Fairbanks, AK 99701; Phone: (907) 452-8251; Fax: (907) 459-3883/3851.

Holy Cross Village, Debbie Turner, P.O. Box 191, Holy Cross, AK 99602; Phone: (907) 476-7169; Fax: (907) 476-7169/7132 and Director of Social Services, Tanana Chiefs Conference, Inc., 122 First Avenue, Suite 600, Fairbanks, AK 99701; Phone: (907) 452-8251; Fax: (907) 459-3883/3851.

Hoonah Indian Association, Leona Santiago, Director, Human Services, P.O. Box 602, Hoonah, AK 99829-0602; Phone: (907) 945-3545; Fax: (907) 945-3703.

Native Village of Hooper Bay, Ruth Pingayak, P.O. Box 62, Hooper Bay, AK 99620 Phone: (907) 758-7918; Fax: (907) 758-4606 and Joan Dewey, ICWA Social Worker, Association of Village Council Presidents, P.O. Box 219, Bethel, AK 99559; Phone: (907) 543-7367; Fax: (907) 543-7319.

Hughes Village, Director of Social Services, Tanana Chiefs Conference, Inc., 122 First Avenue, Suite 600, Fairbanks, AK 99701; Phone: (907) 452-8251; Fax: (907) 459-3883/3851.

Huslia Village, Jack Wholecheese, First Chief, P.O. Box 70, Huslia, AK 99746; Phone: (907) 829-2202; Fax: (907) 829-2214 and Director of Social Services, Tanana Chiefs Conference, Inc., 122 First Avenue, Suite 600, Fairbanks, AK 99701; Phone: (907) 452-8251; Fax: (907) 459-3883/3851.

Hydaburg Cooperative Association, Human Services Director, P.O. Box 206, Hydaburg AK 99922-0305; Phone: (907) 285-3666; Fax: (907) 285-3470.

I

Igiugig Village, Bernadette Andrew, P.O. Box 4008, Igiugig, AK 99613; Phone: (907) 533-3211; Fax: (907) 533-3217.

Village of Iliamna, Gerald Anelon, Tribal Administrator or Martha Anelon, Social Services P.O. Box 286, Iliamna, AK 99606-0286; Phone: (907) 571-1246; Fax: (907) 571-1256.

Inupiat Community of Arctic Slope, Tribal President, P.O. Box 1232, Barrow, AK 99723-1232; Phone: (907) 852-4227; Fax: (907) 852-4246.

Iqurmuit Traditional Council (Russian Mission), Darcy Kameroff, P.O. Box 09, Russian Mission, AK 99657-0009; Phone: (907) 584-5511; Fax: (907) 584-5593.

Ivanoff Bay Village, Tribal President, P.O. Box KIB, Ivanof Bay AK, 99695; Phone: (907) 669-2200; Fax: (907) 669-2207 and Lou Johnson, Bristol Bay Native Association, Social Services, P.O. Box 310, Dillingham, AK 99576; Phone: (907) 842-4139; Fax: (907) 842-4106.

K

Kaguyak Village, ICWA Coordinator, 1400 West Benson Blvd, Suite 350, Anchorage, AK 99503; Phone: (907) 561-0604; Fax: (907) 561-0608.

Organized Village of Kake, Anne Jackson or Carrie Davis, P.O. Box 316, Kake, AK 99830-0316; Phone: (907) 785-6471; Fax: (907) 785-4902.

Kaktovik Village, Sharon Thompson, Arctic Slope Native Association, Social Services, P.O. Box 1232, Barrow, AK 99723; Phone: (907) 852-2762; Fax: (907) 852-2105.

Native Village of Kalskag, (AKA Upper Kalskag), Bernice Hetherington, P.O. Box 50, Upper Kalskag, AK 99607; Phone: (907) 471-2418; Fax: (907) 471-2207.

Native Village of Lower Kalskag, Flora Howard, P.O. Box 27, Lower Kalskag, AK 99626; Phone: (907) 471-2412; Fax: (907) 471-2378 and Joan Dewey, ICWA Social Worker, Association of Village Council Presidents, P.O. Box 219, Bethel, AK 99559; Phone: (907) 543-7367; Fax: (907) 543-7319.

Native Village of Kaltag, Abigail Ambrose, P.O. Box 129, Kaltag, AK 99748; Phone: (907) 534-2224; Fax: (907) 534-2299.

Native Village of Kanatak, Tribal President, P.O. Box 875910, Wasilla, AK 99687; Phone: (907) 376-7271; Fax: (907) 376-7203 and Lou Johnson, Bristol Bay Native Association, Social Services, P.O. Box 310, Dillingham, AK 99576; Phone: (907) 842-4139; Fax: (907) 842-4106.

Native Village of Karluk, Alicia Lyn Reft, P.O. Box 22, Karluk, AK 99603-0000; Phone: (907) 241-2218; Fax: (907) 421-2208.

Organized Village of Kasaan, Richard Peterson, President, P.O. Box KXA-Kasaan, Ketchikan, AK 99950-0340; Phone: (907) 542-2230; Fax: (907) 542-3006.

Kashunamiut Tribe, (See Chevak).

Native Village of Kasigluk, Olinka Nicholas, ICWA Program, P.O. Box 19, Kasigluk, AK 99609; Phone: (907) 477-6405; Fax: (907) 477-6212.

Kenaitze Indian Tribe, Rita Smagge, Executive Director, and Linda Perry, ICWA Program Director, P.O. Box 988, Kenai, AK 99611-0988; Phone: (907) 283-3633/6423; Fax: (907) 283-3052/7088.

Ketchikan Indian Corporation, Debbie Fredericksen, M.S.W., 2960 Tongass Avenue, 5th Floor, Ketchikan, AK 99901; Phone: (907) 225-4061; Fax: (907) 247-4061.

Native Village of Kiana, Charles Curtis, President, P.O. Box 69, Kiana, AK 99749-0069; Phone: (907) 475-2109; Fax: (907) 475-2180.

King Cove, (See Agdaagux).

King Island Native Community, Renee L. Carlisle, ICWA Coordinator, P.O. Box 992, Nome, AK 99762; Phone: (907) 443-5494; Fax: (907) 443-3620.

King Salmon, Tribal President, P.O. Box 68, King Salmon, AK 99613; Phone: (907) 246-3553; Fax: (907) 246-3449 and Lou Johnson, Bristol Bay Native Association, Social Services, P.O. Box 310 Dillingham, AK 99576; Phone: (907) 842-4139; Fax: (907) 842-4106.

Kipnuk Traditional Council, Dendra Martin, ICWA Coordinator, P.O. Box 57, Kipnuk, AK 99614-0057; Phone: (907) 896-5515; Fax: (907) 896-5240.

Kivalina IRA Council, Colleen Swan-Koenig, P.O. Box 50051, Kivalina, AK 99750-5005; Phone: (907) 645-2153; Fax: (907) 645-2193/2250.

Klawock Cooperative Association, Family Caseworker, Box 173, Klawock, AK 99925; Phone: (907) 755-2326; Fax: (907) 755-2647.

Native Village of Kluti-Kaah (Copper Center), Carl Pete, President, P.O. Box 68, Copper Center, AK 99573-0068; Phone: (907) 822-5541; Fax: (907) 822-5130.

Knik Tribe, Carol M. Theodore, P.O. Box 871565, Wasilla, AK 99687-1565; Phone: (907) 373-7991; Fax: (907) 373-2161.

Kobuk Traditional Council, Shayne Schaeffer, P.O. Box 51039, Kobuk, AK 99751-0039; Phone: (907) 948-2255; Fax: (907) 948-2123.

Kodiak Tribal Council, (See Shoonaq Tribe of Kodiak).

Kokhanok Tribe, Roy Andrews, President, P.O. Box 1007, Kokhanok, AK 99606; Phone: (907) 282-2203; Fax: (907) 282-2264 and Lou Johnson, Bristol Bay Native Association, Social Services, P.O. Box 310, Dillingham, AK 99559; Phone: (907) 842-4139; Fax: (907) 842-4106.

New Koliganek Village Council, Tribal President, P.O. Box 5057, Koliganek AK 99576; Phone: (907) 596-3434; Fax: (907) 596-3462 and Lou Johnson, Bristol Bay Native Association, Social Services, P.O. Box 310, Dillingham, AK 99559; Phone: (907) 842-4139; Fax: (907) 842-4106.

Native Village of Kongiganak, Marjorie Strauss, ICWA Program, P.O. Box 5092, Kongiganak, AK 99559-5092; Phone: (907) 557-5311; Fax: (907) 557-5348 and Joan Dewey, ICWA Social Worker, Association of Village Council Presidents, P.O. Box 219, Bethel, AK 99559; Phone: (907) 543-7367; Fax: (907) 543-7319.

Association of Village Council Presidents, P.O. Box 219, Bethel, AK 99559; Phone: (907) 543-7367; Fax: (907) 543-7319.

Village of Kotlik, Martina Jack, P.O. Box 20268, Kotlik, AK 99620; Phone: (907) 899-4459; Fax: (907) 899-4459/4790 and Joan Dewey, ICWA Social Worker, Association of Village Council Presidents, P.O. Box 219, Bethel, AK 99559; Phone: (907) 543-7367; Fax: (907) 543-7319.

Kotzebue IRA, Ruth Nanouk, P.O. Box 296, Kotzebue, AK 99752-0296; Phone: (907) 442-3467; Fax: (907) 442-2162.

Native Village of Koyuk, Leo M. Charles Sr., Tribal Family Coordinator, P.O. Box 53030, Koyuk, AK 99753; Phone: (907) 963-2215; Fax: (907) 963-2353.

Koyukuk Native Village, Director of Social Services, Tanana Chiefs Conference, Inc., 122 First Avenue, Suite 600, Fairbanks, AK 99701; Phone: (907) 452-8251; Fax: (907) 459-3883/3851.

Organized Village of Kwethluk, Chariton A. Epchook, P.O. Box 97, Kwethluk, AK 99621-0097; Phone: (907) 757-6023/6043/6053; Fax: (907) 757-6073.

Native Village of Kwigillingok, Andrew Beaver, P.O. Box 54, Kwigillingok, AK 99622-0049; Phone: (907) 588-8705; Fax: (907) 588-8228.

Native Village of Kwinhagak, (A.K.A. Quinkagak), President, P.O. Box 149, Quinhagak, AK 99655-0149; Phone: (907) 556-8165; Fax: (907) 556-8166.

L

Native Village of Larsen Bay, Valen Norell, P.O. Box 35, Larsen Bay, AK 99624-0125; Phone: (907) 847-2276; Fax: (907) 847-2307.

Lesnoi Village (A.K.A, Woody Island), Andy Teuber Jr., P.O. Box 9009, Kodiak, AK 99615; Phone: (907) 486-2821; Fax: (907) 486-2738.

Levelock Village, Tribal President, P.O. Box 70, Levelock, AK 99625; Phone: (907) 287-3030; Fax: (907) 287-3032 and Lou Johnson, Bristol Bay Native Association, Social Services, P.O. Box 310, Dillingham, AK 99576; Phone: (907) 842-4139; Fax: (907) 842-4106.

Lime Village, Lisa Gusty, ICWA Program, P.O. Box LVD, McGrath, AK 99627; Phone: (907) 526-5237; Fax: (907) 526-5235.

Louden, (See Galena).

M

Manley Hot Springs Village, Elizabeth M. Woods, P.O. Box 105, Manley Hot Springs, AK 99756; Phone: (907) 672-3177; Fax: (907) 672-3200.

Manokotak Village, Tribal President, P.O. Box 169 Manokotak, AK 99628; Phone: (907) 289-2067; Fax: (907) 289-1235 and Lou Johnson, Bristol Bay Native Association, Social Services, P.O. Box 310, Dillingham, AK 99576; Phone: (907) 842-4139; Fax: (907) 842-4106.

Marshall Traditional Council, Family Services Director, Box 110, Marshall, AK 99585; Phone: (907) 679-6302/6128; Fax: (907) 679-6187.

Native Village of Mary's Igloo, Dolly Kugzruk, P.O. Box 630, Teller, AK 99778; Phone: (907) 642-2185; Fax: (907) 642-3000.

McGrath Native Village, Director of Social Services, Tanana Chiefs Conference, Inc., 122 First Avenue, Suite 600, Fairbanks, AK 99701; Phone: (907) 452-8251; Fax: (907) 452-3883/3851.

Mekoryuk IRA Council, Lillian Shavings, ICWA Director, P.O. Box 66, Mekoryuk, AK 99630; Phone: (907) 827-8827; Fax: (907) 827-8133.

Mentasta Tribal Council, Lotha Wolf or Kathryn Martin, P.O. Box 6019, Mentasta, AK 99780; Phone: (907) 291-2328; Fax: (907) 291-2305.

Metlakatla Indian Community, Karen D. Thompson, Social Services Director, P.O. Box 8, Metlakatla, AK 99926; Phone: (907) 886-6914; Fax: (907) 886-6913.

Native Village of Minto, Tanana Chiefs Conference, Inc., Director Human Services, 122 First Avenue, Suite 600, Fairbanks, AK 99701; Phone: (907) 452-8251; Fax: (907) 459-3883/3851.

Mountain Village, (See Asa'Carsarmiut Tribe).

N

Naknek Native Village, Wendy Hansen or Tanya Hansen, Box 106, Naknek, AK 99633; Phone: (907) 246-4210; Fax: (907) 246-3563.

Native Village of Nanwalek, Priscilla Evans, ICWA Program, P.O. Box 8028, Nanwalek, AK 99603-6628; Phone: (907) 281-2327; Fax: (907) 281-2252.

Native Village of Napaimute, Mark Leary, Box 1301, Bethel, AK 99559; Phone: (907) 543-2887; Fax: (907) 543-2892 and Joan Dewey, ICWA Social Worker, Association of Village Council Presidents, P.O. Box 219, Bethel, AK 99559; Phone: (907) 543-7367; Fax: (907) 543-7319.

Native Village of Napakiak, Freda Andrew, P.O. Box 34013, Napakiak, AK 99634; Phone: (907) 589-2815; Fax: (907) 589-2815/2136 and Joan Dewey, ICWA Social Worker, Association of Village Council Presidents, P.O. Box 219, Bethel, AK 99559; Phone: (907) 543-7367; Fax: (907) 543-7319.

Native Village of Napaskiak, Ina Evan, P.O. Box 6009, Napaskiak, AK 99559; Phone: (907) 737-7821; Fax: (907) 737-7845 and Joan Dewey, ICWA Social Worker, Association of Village Council Presidents, P.O. Box 219, Bethel, AK 99559; Phone: (907) 543-7367; Fax: (907) 543-7319.

Native Village of Nelson Lagoon, Justine Gundersen or Nanette Johnson, P.O. Box 13, Nelson Lagoon, AK 99571; Phone: (907) 989-2204; Fax: (907) 989-2233.

Nenana Native Village, Laurel Moses, ICWA Program, P.O. Box 356, Nenana, AK 99760; Phone: (907) 832-5461; Fax: (907) 832-1077.

New Stuyahok Village, Wassillie Andrew, Village Administrator, P.O. Box 49, New Stuyahok, AK 99636; Phone: (907) 693-3173; Fax: (907) 693-3179.

Newhalen Village, Gladys Askoak, Social Services, P.O. Box 207, Newhalen, AK 99606-0207; Phone: (907) 571-1410; Fax: (907) 571-1537.

Newtok Village, Molly Kassauili, P.O. Box 5545, Newtok, AK 99559-5545; Phone: (907) 237-2314; Fax: (907) 237-2428.

Native Village of Nightmute, Janet Lawrence, P.O. Box 90021, Nightmute, AK 99690; Phone: (907) 647-6386; Fax: (907) 647-6387.

Native Village of Nikolai, (Edenzo), Peter A. Tony, P.O. Box 9105, Nikolai, AK 99691; Phone: (907) 293-2310; Fax: (907) 293-2481.

Native Village of Nikolski, Grace Smith, Aleutian/Pribilof Islands Association, 201 E. 3rd Avenue, Anchorage, AK 99501; Phone: (907) 222-4237; Fax: (907) 279-4351.

Ninilchik Traditional Council, Susan Welsh-Smith or Jeffrey Smith, ICWA/Social Service Coordinator, P.O. Box 39070, Ninilchik, AK 99639; Phone: (907) 567-3313; Fax: (907) 567-3308.

Native Village of Noatak, Sarah R. Penn, ICWA Program, P.O. Box 89, Noatak, AK 99761-0089; Phone: (907) 485-2176/2173; Fax: (907) 485-2137.

Nome Eskimo Community, Denise Barengo or Lorlie Shield, P.O. Box 1090, Nome, AK 99762-1090; Phone: (907) 443-2246; Fax: (907) 443-3539.

Nondalton Village, Susan Bobby or Brenda Trefon, Social Services, P.O. Box 49, Nondalton, AK 99640-0049; Phone: (907) 294-2220; Fax: (907) 294-2234.

Noorvik Native Community, Nellie Ballot, ICWA Coordinator, P.O. Box 131, Noorvik, AK 99763; Phone: (907) 636-2258/2144; Fax: (907) 636-2268.

Northway Village, Daisy Northway or Crystalena Sam, P.O. Box 516, Northway, AK 99764; Phone: (907) 778-2311; Fax: (907) 778-2220.

Native Village of Nuiqsut, Sharon Thompson, Arctic Slope Native Association, Social Services, P.O. Box 1232, Barrow, AK 99723; Phone: (907) 852-2762; Fax: (907) 852-2105.

Nulato Village, Kathleen Sam, P.O. Box 65049, Nulato, AK 99765; Phone: (907) 898-2329; Fax: (907) 898-2207.

Nunakauyarmiut Tribe (formerly, Toksook Bay), Pauline Asuluk, P.O. Box 37048; Toksook Bay, AK 99637-0108; Phone: (907) 427-7914; Fax: (907) 427-7206.

Nunam Iqua, (See Sheldon Point).

Native Village of Nunapitchuk, Moses Tobeluk, P.O. Box 104, Nunapitchuk, AK 99641-0130; Phone: (907) 527-5731/5705; Fax: (907) 527-5711 and Joan Dewey, ICWA Social Worker, Association of Village Council Presidents, P.O. Box 219, Bethel, AK 99559; Phone: (907) 543-7367; Fax: (907) 543-7319.

O

Village of Ohogamiut, Nick Isaac, P.O. Box 49, Marshall, AK 99585, Phone: (907) 679-6517; Fax: (907) 679-6516.

Old Harbor Tribal Council, Lisa Ann Christiansen, P.O. Box 62, Old Harbor, AK 99643-0062; Phone: (907) 286-2215; Fax: (907) 286-2277.

Native Village of Orutsararmuit, (A.K.A. Bethel), ICWA, Program, P.O. Box 927, Bethel, AK 99559-0927; Phone: (907) 543-2608; Fax: (907) 543-2639.

Oscarville Traditional Village, Jimmy Larsen, Jr., ICWA Program, P.O. Box 6129, Oscarville, AK 99559; Phone: (907) 737-7099; Fax: (907) 737-7428 and Joan Dewey, ICWA Social Worker, Association of Village Council Presidents, P.O. Box 219, Bethel, AK 99559; Phone: (907) 543-7367; Fax: (907) 543-7319.

Ouzinkie Tribal Council, Sharon Boskofsky, ICWA Program, P.O. Box 130, Ouzinkie, AK 99644-0130; Phone: (907) 680-2259/2359; Fax: (907) 680-2214.

P

Native Village of Paimiut, Rebecca Napoleon, P.O. Box 209, Hooper Bay, AK 99604; Phone: (907) 758-4002; Fax: (907) 758-4024 and Joan Dewey, ICWA Social Worker, Association of Village Council Presidents, P.O. Box 219, Bethel, AK 99559; Phone: (907) 543-7367; Fax: (907) 543-7319.

Pauloff Harbor Village, Grace Smith, Aleutian/Pribilof Islands Association, 201 E. 3rd Avenue, Anchorage, AK 99501; Phone: (907) 222-4237; Fax: (907) 279-4351.

Pedro Bay Village, Kevin Jensen, P.O. Box 47020, Pedro Bay, AK 99647-7020; Phone: (907) 850-2225; Fax: (907) 850-2221.

Native Village of Perryville, Bernice O'Domin, ICWA Program, P.O. Box 101, Perryville, AK 99648-0101; Phone: (907) 853-2242; Fax: (907) 853-2229 and Lou Johnson, Bristol Bay Native Association, Social Services, P.O. Box 310, Dillingham, AK 99576; Phone: (907) 842-4139; Fax: (907) 842-4106.

Petersburg Indian Association, Family Caseworker, Box 1418, Petersburg, AK 99833; Phone: (907) 772-4080; Fax: (907) 772-3637.

Native Village of Pilot Point, Tribal President, P.O. Box 449, Pilot Point, AK 99659; Phone: (907) 797-2208; Fax: (907) 797-2258 and Lou Johnson, Bristol Bay Native Association, Social Services, P.O. Box 310, Dillingham, AK 99576; Phone: (907) 842-4139; Fax: (907) 842-4106.

Pilot Station Traditional Village, Magdalene Myers, ICWA Program, P.O. Box 5119, Pilot Station, AK 99650-5119; Phone: (907) 549-3550; Fax (907) 549-3551 and Joan Dewey, ICWA Social Worker, Association of Village Council Presidents, P.O. Box 219, Bethel, AK 99559; Phone: (907) 543-7367; Fax: (907) 543-7319.

Native Village of Pitka's Point, Carol Alstrom, P.O. Box 127, St. Mary's, AK 99658; Phone: (907) 438-2551; Fax: (907) 438-2569 and Joan Dewey, ICWA Social Worker, Association of Village Council Presidents, P.O. Box 219, Bethel, AK 99559; Phone: (907) 543-7367; Fax: (907) 543-7319.

Platinum Traditional Village, Helen Kilbuck, P.O. Box 8, Platinum, AK 99651; Phone: (907) 979-8610; Fax: (907) 979-8178.

Native Village of Point Hope, Mae R. Hank, P.O. Box 109, Point Hope, AK 99766; Phone: (907) 368-2330; Fax: (907) 368-2332.

Native Village of Point Lay, Amos Agnasayga, Box 59031, Pt. Lay, AK 99757; Phone: (907) 833-2575; and Sharon Thompson, Arctic Slope Native Association, Social Services, P.O. Box 1232, Barrow, AK 99723; Phone: (907) 852-2762; Fax: (907) 852-2105.

Port Graham Village Council, Elenore McMullen, Chief or Mary Malchoff, Tribal ICWA Worker, P.O. Box 5510, Port Graham, AK 99603; Phone: (907) 284-2227; Fax: (907) 284-2222.

Native Village of Port Heiden, Toni Lind, Tribal Children Service Worker, P.O. Box 49007, Port Heiden, AK 99549; Phone: (907) 837-2296; Fax: (907) 837-2297.

Native Village of Port Lions, Tribal Council, P.O. Box 69, Port Lions, AK 99550-0069; Phone: (907) 454-2234; Fax: (907) 454-2434.

Portage Creek Village, Tribal President, P.O. Box PCA Portage Creek, AK.99576; Phone: (907) 842-2564; Fax: (907) 842-2564 and Lou Johnson, Bristol Bay Native Association, Social Services P.O. Box 310, Dillingham, AK 99576; Phone: (907) 842-4139; Fax: (907) 842-4106.

Q

Qagan Tayagungin Tribe of Sand Point Village, Grace Smith, Aleutian/Pribilof Islands Association, 201 E. 3rd. Avenue, Anchorage, AK 99501; Phone: (907) 222-4237; Fax: (907) 279-4351.

Qawalangin Tribe of Unalaska, Grace Smith, Aleutian/Pribilof Islands Association, 201 E. 3rd Avenue, Anchorage, AK 99501; Phone: (907) 222-4237; Fax: (907) 279-4351.

Quinhagak, (See Kwinhagak).

R

Rampart Village, Tanana Chiefs Conference, Inc., Director Human Services, 122 First Avenue, Suite 600, Fairbanks, AK 99701; Phone: (907) 452-8251 Ext. 3229; Fax: (907) 459-3851.

Red Devil Traditional Council, Theodore E. Gordon, Sr., Tribal Administrator, P.O. Box 91, Red Devil, AK 99656; Phone: (907) 447-3223; Fax: (907) 447-3224 and Joan Dewey, ICWA Social Worker, Association of Village Council Presidents, P.O. Box 219, Bethel, AK 99559; Phone: (907) 543-7367; Fax: (907) 543-7319.

Ruby Tribal Council, Director of Social Services, Tanana Chiefs Conference Inc., 122 First Avenue, Suite 600, Fairbanks, AK 99701; Phone: (907) 452-8251; Fax: (907) 459-3883/3851.

Russian Mission, (See Iqurmuit).

S

Native Village of Salamatoff, Rita Smagge, Kenaitze Indian Tribe, P.O. Box 988, Kenai, AK 99611; Phone: (907) 283-3633; Fax: (907) 283-3052.

Native Village of Savoonga, Fritz Waghiyi, President or Sandra Gologergen, ICWA Worker, P.O. Box 34, Savoonga, AK 99769; Phone: (907) 984-6211; Fax: (907) 984-6027.

Organized Village of Saxman, Family Caseworker, Route 2, Box 2, Ketchikan, AK 99901; Phone: (907) 225-2518; Fax: (907) 247-2912.

Native Village of Scammon Bay, Thelma Kaganak, P.O. Box 54, Scammon Bay, AK 99662-0126; Phone: (907) 558-5078; Fax: (907) 558-5352 and Joan Dewey, ICWA Social Worker, Association of Village Council Presidents, P.O. Box 219, Bethel, AK 99559; Phone: (907) 543-7367; Fax: (907) 543-7319.

Native Village of Selawik, Roger Clark, General Manager, P.O. Box 59, Selawik, AK 99770-0059; Phone: (907) 484-2165; Fax: (907) 484-2226 or 2110.

Seldovia Village Tribe, Lillian Elvsaas, P.O. Drawer L, Seldovia, AK 99663; Phone: (907) 234-7898; Fax: (907) 234-7637.

Shageluk Native Village, Director of Social Services, Tanana Chiefs Conference, Inc.,122 First Avenue, Suite 600, Fairbanks, AK 99701; Phone: (907) 452-8251; Fax: (907) 459-3883/3851.

Native Village of Shaktoolik, Priscilla Savetilik, P.O. Box 100, Shaktoolik, AK 99771; Phone: (907) 955-2444; Fax: (907) 955-2443.

Native Village of Sheldon Point, (AKA Nunam Iqua), James O'Malley or Zita Chikigak, P.O. Box 27, Sheldon Point, AK 99666; Phone: (907) 498-4184/4186; Fax: (907) 498-4185 and Joan Dewey, ICWA Social Worker, Association of Village Council Presidents, P.O. Box 219, Bethel, AK 99559; Phone: (907) 543-7367; Fax: (907) 543-7319.

Native Village of Shishmaref, Karla Nayokpuk, P.O. Box 72110, Shishmaref, AK 99772; Phone: (907) 649-3078; Fax: (907) 649-2278.

Shoonaq Tribe of Kodiak, Leonard Heitman and/or Leona Haakanson-Crow, 713 East Rezanof Drive, # B, Kodiak AK 99615; Phone: (907) 486-4449; Fax: (907) 486-3361.

Native Village of Shungnak, Lizzie Cleveland, P.O. Box 64, Shungnak, AK 99773; Phone: (907) 437-2163; Fax: (907) 437-2183.

Sitka Tribe of Alaska, Pat Alexander, 456 Katlian St, Sitka, AK 99835; Phone: (907) 747-2669; Fax: (907) 747-3918.

Skagua (Skagway) Village, Indian Child Welfare Coordinator, Central Council and Tlingit and Haida Indian Tribes of Alaska, 320 W. Willoughby, Suite 300, Juneau, AK 99801; Phone: (907) 463-7163; Fax: (907) 463-7343.

Village of Sleetmute, Sophie Gregory, P.O. Box 34, Sleetmute, AK 99668; Phone: (907) 449-4205; Fax: (907) 449-4203 and Joan Dewey, ICWA Social Worker, Association of Village Council Presidents, P.O. Box 219, Bethel, AK 99559; Phone: (907) 543-7367; Fax: (907) 543-7319.

Village of Solomon, Wally Johnson, ICWA Coordinator, P.O. Box 2053, Nome, AK 99762, Phone: (907) 443-4985; Fax: (907) 443-5189.

South Naknek Village, Robert Hodgdon Jr., ICWA Program, P.O. Box 70029, South Naknek, AK 99670; Phone: (907) 246-8614; Fax: (907) 246-8613 and Lou Johnson, Bristol Bay Native Association, Social Services, P.O. Box 310 Dillingham, AK 99576; Phone: (907) 842-4139; Fax: (907) 842-4106.

St. George Island, Grace Smith, Aleutian/Pribilof Islands Association, 201 E. 3rd Avenue, Anchorage, AK 99501; Phone: (907) 222-4237; Fax: (907) 279-4351.

St. Mary's, (See Algaaciq).

Native Village of St. Michael, IRA Village Council President, P.O. Box 58, St. Michael, AK 99659; Phone: (907) 923-2546; Fax: (907) 923-2474.

St. Paul Island, Grace Smith, Aleutian/Pribilof Islands Association, 201 E. 3rd Avenue, Anchorage, AK 99501; Phone: (907) 222-4237; Fax: (907) 279-4351.

Stebbins Community Association, Sarah Steve, ICWA Coordinator, P.O. Box 2, Stebbins, AK 99671; Phone: (907) 934-3561; Fax: (907) 934-3560.

Native Village of Stevens, Director of Social Services, Tanana Chiefs Conference, Inc., 122 First Avenue, Suite 600, Fairbanks, AK 99701; Phone: (907) 452-8251; Fax: (907) 459-3883/3851.

Village of Stony River, Mary Macar, ICWA Program, P.O. Box SRV, Stony River, AK 99557; Phone: (907) 537-3235; Fax: (907) 537-3236; and Joan Dewey, ICWA Social Worker, Association of Village Council Presidents, P.O. Box 219, Bethel, AK 99559; Phone: (907) 543-7367; Fax: (907) 543-7319.

T

Takotna Village, Jan Newton, Tribal Administrator, General Delivery, Takotna, AK 99675; Phone: (907) 298-2212; Fax: (907) 298-2314.

Native Village of Tanacross, Jerry Isaac, P.O. Box 76009, Tanacross, AK 99776; Phone: (907) 883-5024; Fax: (907) 883-4497.

Native Village of Tanana, Carla K. Bonney, P.O. Box 130, Tanana, AK 99777; Phone: (907) 366-7154/7170; Fax: (907) 366-7229.

Native Village of Tatitlek, Tribal President, P.O. Box 171, Tatitlek, AK 99677; Phone: (907) 325-2311; Fax: (907) 325-2298.

Native Village of Tazlina, Angel Craig, Social Services, Copper River Native Assoc., P.O. Box H, Copper Center, AK 99573; Phone: (907) 822-5241 x 243; Fax: (907) 822-8801.

Telida Village, Director of Social Services, Tanana Chiefs Conference, Inc., 122 First Avenue, Suite 600, Fairbanks, AK 99701; Phone: (907) 452-8251; Fax: (907) 459-3883/3851.

Native Village of Teller, Dolly Kugzruk, Family Services, P.O. Box 630, Teller, AK 99778-0567; Phone: (907) 642-2185; Fax: (907) 642-3000.

Native Village of Tetlin, Nettie J. Warbelow, Box 93 Tok, AK 99780; Phone: (907) 883-3676; Fax: (907) 883-3034.

Central Council Tlingit & Haida Indian Tribes of Alaska, Indian Child Welfare Coordinator, 320 W. Willoughby Avenue, Suite 300, Juneau AK 99801; Phone: (907) 463-7163; Fax: (907) 463-7343.

Traditional Village of Togiak, Tribal President, P.O. Box 310, Togiak, AK 99678; Phone: (907) 493-5503; Fax: (907) 493-5005 and Lou Johnson, Bristol Bay Native Association, Social Services, P.O. Box 310, Dillingham, AK 99576; Phone: (907) 842-4139; Fax: (907) 842-4106.

Toksook Bay, (See Nunakauyarmiut Tribe).

Tuluksak Native Community, Lorena Napoka, P.O. Box 95, Tuluksak, AK 99679-0095; Phone: (907) 695-6902; Fax: (907) 695-6932.

Native Village of Tununak, Felix Albert, Chairman, P.O. Box 77, Tununak, AK 99681-0077; Phone: (907) 652-6527; Fax: (907) 652-6011.

Tuntutuliak Traditional Council, Henry Lupie, P.O. Box WTL, Tuntutuliak, AK 99680; Phone: (907) 256-2128; Fax: (907) 256-2080 and Joan Dewey, ICWA Social Worker, Association of Village Council Presidents, P.O. Box 219, Bethel, AK 99559; Phone: (907) 543-7367; Fax: (907) 543-7319.

Twin Hills Village Council, Tribal President, P.O. Box TWA, Twin Hills, AK 99576; Phone: (907) 525-4821; Fax: (907) 525-4822 and Lou Johnson, Bristol Bay Native Association, Social Services, P.O. Box 310, Dillingham, AK 99576; Phone: (907) 842-4139; Fax: (907) 842-4106.

The Native Village of Tyonek, ICWA Program, P.O. Box 82069, Tyonek, AK 99682-0009; Phone: (907) 583-2203; Fax: (907) 583-2442/2203.

U

Ugashik Village, Roy S. Matsuno and Jorene Volkheimer, 206 E. Fireweed, #204, Anchorage, AK 99503; Phone: (907) 338-7611; Fax: (907) 338-7659 and Lou Johnson, Bristol Bay Native Association, Social Services, P.O. Box 310 Dillingham, AK 99576; Phone: (907) 842-4139; Fax: (907) 842-4106.

Umkumiut Native Village, John George, P.O. Box 90062, Nightmute, AK 99690 and Joan Dewey, ICWA Social Worker, Association of Village Council Presidents, P.O. Box 219, Bethel, AK 99559; Phone: (907) 543-7367; Fax: (907) 543-7319.

Native Village of Unalakleet, Alice Fuerstenau, P.O. Box 357, Unalakleet, AK 99684; Phone: 907-624-3526; Fax: (907) 624-5104.

Unalaska, (See Qawalangin Tribe of Unalaska).

Native Village of Unga, Grace Smith, Aleutian/Pribilof Islands Association, Social Services, 201 E. 3rd Avenue, Anchorage, AK 99501; Phone: (907) 222-4237; Fax: (907) 279-4351.

Native Village of Upper Kalskag, (See Kalskag).

V

Native Village of Venetie Tribal Government, Donna M. Erick, Tribal Administrator, P.O. Box 81080, Venetie AK 99781-0119; Phone: (907) 849-8165/8378; Fax: (907) 849-8097.

W

Village of Wainwright, Sharon Thompson, Arctic Slope Native Association, Social Services, P.O. Box 1232, Barrow, AK 99723; Phone: (907) 852-2762; Fax: (907) 852-2105.

Native Village of Wales, Joanne Keyes, P.O. Box 549, Wales, AK 99783; Phone: (907) 664-2185; Fax: (907) 664-3062.

Native Village of White Mountain, Joleen M. Fagundes, ICWA Coordinator, P.O. Box 84082, White Mountain, AK 99784; Phone: (907) 638-3651; Fax: (907) 638-3652.

Wrangell Cooperative Association, Elizabeth Newman, Family Counselor, Box 1198, Wrangell, AK 99929; Phone: (907) 874-3482; Fax: (907) 874-2982.

Y

Yakutat Tlingit Tribe, Ramona Anderstrom, Family Service Director, P.O. Box 418, Yakutat, AK 99689; Phone: (907) 784-3375; Fax: (907) 784-3664.

Eastern Oklahoma Region

Regional Director (Vacant), 101 North 5th Street, Muskogee, OK 74401; Phone: (918) 687-2507; Fax: (918) 687-2321.

Lafonda Mathews, Regional Social Worker, Federal Courthouse Bldg., 101 North 5th Street, Muskogee, OK 74401; Phone: (918) 687-2507; Fax: (918) 687-2321.

A

Alabama—Quassarte Tribal Town, Tarpie Yargee, Chief, P.O. Box 187, Wetumka, OK 74883; Phone: (405) 452-3987.

C

Cherokee Nation of Oklahoma, Chadwick Smith, Principal Chief, P.O. Box 948, Tahlequah, OK 74465; Phone: (918) 456-0671.

The Chickasaw Nation, Bill Anoatubby, Governor, Department of Family Advocacy, P.O. Box 1548, Ada, OK 74821; Phone: (580) 436-2603.

Choctaw Nation of Oklahoma, Gregory E. Pyle, Chief, P.O. Drawer 1210, Durant, OK 74702-1210; Phone: (580) 924-8280.

D

Delaware Tribe of Indians, 220 NW Virginia Ave., Bartlesville, OK 74003; Phone: (918) 336-5272.

E

Eastern Shawnee Tribe of Oklahoma, Charles D. Enyart, Chief, P.O. Box 350, Seneca, MO 64865; Phone: (918) 666-2435.

K

Kialegee Tribal Town, Lowell Wesley, Town King, P.O. Box 332, Wetumka, OK 74883; Phone: (918) 452-3262.

M

Miami Tribe of Oklahoma, Floyd Leonard, Chief, P.O. Box 1326, Miami, OK 74355; Phone: (918) 542-1445.

Modoc Tribe of Oklahoma, Bill Gene Follis, Chief, 515 G Southeast, Miami, OK 74354; Phone: (918) 542-1190.

The Muscogee (Creek) Nation, R. Perry Beaver, Principal Chief, P.O. Box 580, Okmulgee, OK 74447; Phone: (918) 756-8700.

O

Osage Tribe, Charles O. Tillman, Jr. Principal Chief, P.O. Box 779, Pawhuska, OK 74056; Phone: (918) 287-1085.

Ottawa Tribe of Oklahoma, Charles Todd, Chief, P.O. Box 110, Miami, OK 74335; Phone: (918) 540-1536.

P

Peoria Tribe of Oklahoma, John P. Froman, Chief, P.O. Box 1527, Miami, OK 74355; Phone: (918) 540-2535.

Q

Quapaw Tribe of Oklahoma, Tamara Summerfield, Chairperson, P.O. Box 765, Quapaw, OK 74363; Phone: (918) 542-1853.

S

Seminole Nation of Oklahoma, Principal Chief, P.O. Box 1498, Wewoka, OK 74884; Phone: (405) 257-6287.

Seneca-Cayuga Tribe of Oklahoma, Principal Chief, P.O. Box 1498, Miami, OK 74355; Phone: (918) 542-6609.

T

Thlopthlocco Tribal Town, Grace Bunner, Town King, Indian Child Welfare Program, P.O. Box 188, Okemah, OK 74859; Phone: (918) 623-2620.

U

United Keetoowah Band of Cherokee Indians, Dallas Proctor, Chief, P.O. Box 189, Parkhill, OK 74451; Phone: (918) 431-1818.

W

Wyandotte Tribe of Oklahoma, Leaford Bearskin, Chief, P.O. Box 250, Wyandotte, OK 74370; Phone: (918) 678-2297/2298.

Eastern Region

Franklin Keel, Regional Director, 711 Stewarts Ferry Pike, Nashville, TN 37214-2634; Phone: (615) 467-1700; Fax: (615) 467-1701.

Marge Eagleman, Regional Social Worker, 711 Stewarts Ferry Pike, Nashville, TN 37214-2634; Phone: (615) 467-1578; Fax: (615) 467-1579.

A

Aroostook Band of Micmac Indians, President, 7 Northern Road, Presque Isle, Maine 04769; Phone: (207) 764-1972; Fax: (207) 764-7667.

C

Catawba Indian Nation of South Carolina, Social Worker, P.O. Box 188, Catawba, South Carolina 29704; Phone: (803) 366-4792; Fax: (803) 366-9150.

Cayuga Nation of New York, Child Welfare Worker, P.O. Box 11, Versailles, New York 14168; Phone: (716) 532-4847; Fax: (716) 532-5417.

Chitimacha Tribe of Louisiana, Human Services Director, P.O. Box 661, Charenton, Louisiana 70523; Phone: (337) 923-7215; Fax: (337) 923-7001.

Coushatta Tribe of Louisiana, Social Services Director, P.O. Box 790, Elton, Louisiana 70532; Phone: (337) 584-1435; Fax: (377) 584-1474.

E

Eastern Band of Cherokee Indians, Family Support Services, Qualla Road, P.O. Box 507, Cherokee, North Carolina 28719; Phone: (828) 497-9101; Fax: (828) 497-3140.

H

Houlton Band of Maliseet Indians, Tribal Chief, Route 3, Box 450, Houlton, Maine 04730; Phone: (207) 532-4273; Fax: (201) 532-4273.

M

Mashantucket Pequot Tribal Nation, Chairman, P.O. Box 3060, Mashantucket, Connecticut 06339; Phone: (860) 396-6500; Fax: (860) 396-3191.

Miccosukee Tribe, Chairman, P.O. Box 440021, Tamiami Station, Miami, Florida 33144; Phone: (305) 223-8380; Fax: (305) 223-1811.

Mississippi Band of Choctaw Indians, Social Services Director, P.O. Box 6010—Choctaw Brand Philadelphia, Mississippi 39350; Phone: (601) 650-1741; Fax: (601) 656-8817.

N

Narragansett Indian Tribe, Chief Sachem, P.O. Box 268, Charlestown, Rhode Island 02813; Phone: (401) 364-1100, Fax: (401) 364-1104.

O

Oneida Indian Nation, Member Affairs Office, P.O. Box 1, Vernon, New York 13476; Phone: (315) 829-3090; Fax: (315) 829-3141.

Onondaga Nation of New York, Council of Chiefs, P.O. Box 85, Nedrow, New York 13120; Phone: (315) 469-1875; Fax: (315) 492-4822.

P

Passamaquoddy Tribe of Maine, Governor, Indian Township Reservation, P.O. Box 301, Princeton, Maine 04668; Phone: (207) 796-2301; Fax: (207) 796-5256.

Passamaquoddy Tribe of Maine, Governor, Pleasant Point Reservation, P.O. Box 343, Perry, Maine 04667; Phone: (207) 853-2600; Fax: (207) 853-6039.

Penobscot Indian Nation of Maine, Human Service Director, 6 River Road, Indian Island, Maine 04468; Phone: (207) 827-7776, Ext. 7492; Fax: (207) 827-2937.

Poarch Band of Creek Indians, Social Services Department, 5811 Jack Springs Road, Atmore, Alabama 36502; Phone: (334) 368-9136; Fax: (334) 368-0820.

S

Saint Regis Band of Mohawk Indians, ICWA Program Coordinator, 412 State, Route 37, Hogansburg, New York 13655; Phone: (518) 358-4516; Fax: (518) 358-9258.

Seminole Tribe of Florida Family Services Program, 3006 Josie Billie Avenue, Hollywood, Florida 33024; Phone: (954) 964-6338; Fax (954) 964-6338.

Seneca Nation of New York, Clerk, Genevieve Plummer Building, Box 231, Salamenca, New York 14779; Phone: (716) 945-1790; Fax: (716) 954-1565.

T

Tonawanda Band of Senecas, Chief, 7027 Meadville Road, Basom, New York 14013; Phone: (716) 542-4244; Fax: (716) 524-4244.

Tunica-Biloxi Indian Tribe of Louisiana, Social Service Director, P.O. Box 1589, Marksville, Louisiana 71351; Phone: (318) 253-5100; Fax: (318) 253-9791.

Tuscarora Nation of New York, Chief, 2006 Mount Hope Road, Lewistown, New York 14092; Phone: (716) 297-0598, Ext. 2602; Fax: (716) 297-1562.

W

Wampanoag Indians, Human Services Program Coordinator, Gay Head 20 Black Brook Road, Aquinnah, Maine 02535; Phone: (508) 645-9265; Fax: (508) 645-2755.

Great Plains Region

Cora L. Jones, Regional Director, 115 4th Avenue, S.E., Aberdeen, SD 57401; Phone: (605) 226-7351; Fax: (605) 226-7627.

Peggy Davis, Social Worker, 115 4th Avenue, S.E., Aberdeen, SD 57401; Phone: (605) 226-7351; Fax: (605) 226-7627.

C

Cheyenne River Sioux Tribe, Richard Pritzkau, ICWA Director, Cheyenne River Sioux Tribe, P.O. Box 747, Eagle Butte, SD 57625; Phone: (605) 964-6460; Fax: (605) 964-6463.

Crow Creek Sioux Tribe, Pattie Ross, ICWA Director, Crow Creek Sioux Tribe, P.O. Box 50, Fort Thompson, SD 57339; Phone: (605) 245-2322; Fax: (605) 245-2844.

F

Flandreau Santee Sioux Tribe, Jack Thompson, ICWA Administrator, Flandreau Santee Sioux Tribal Social Services, P.O. Box 283, Flandreau, SD 57028; Phone: (605) 997-5055; Fax: (605) 997-5426.

L

Lower Brule Sioux Tribe, Greg Miller, ICWA Director, Lower Brule Sioux Tribe, P.O. Box 244, Lower Brule, SD 57548; Phone: (605) 473-5584; Fax: (605) 473-9268.

O

Oglala Sioux Tribe, Floyd White Eye, ICWA Administrator, Oglala Sioux Tribe-ONTRAC, P.O. Box 148, Pine Ridge, SD 57770; Phone: (605) 856-5270; Fax: (605) 856-5168.

Omaha Tribe of Nebraska, Loretta Marr, ICWA Director, Omaha Tribe of Nebraska, Child Protection Services, P.O. Box 429, Macy, NE 68039; Phone: (402) 837-5261; Fax: (402) 837-5262.

P

Ponca Tribe of Nebraska, Alpha Marie Goombi, ICWA Specialist, ICWA Program, Ponca Tribe of Nebraska, 1001 Avenue H, Carter Lake, IA 51510; Phone: (712) 347-6781; Fax: (712) 347-6792; ICWA Cell: (402) 841-9716; Email: ptonicwa@yahoo.com.

R

Rosebud Sioux Tribe, Carol Buchanan, ICWA Specialist, BIA-Rosebud Agency, P.O. Box 500, Rosebud, SD 57570; Phone: (605) 856-2375; Fax: (605) 856-5192.

S

Santee Sioux Tribe of Nebraska, Martha Thomas, ICWA Specialist, Santee Sioux Tribe of Nebraska, Dakota Tiwahe Social Services Program, Route 2, Box 5191, Niobara, NE 68760; Phone: (402) 857-2342; Fax: (402) 857-2361.

Sisseton-Wahpeton Sioux Tribe, Evelyn Pilcher, ICWA Director, P.O. Box 509, Agency Village, SD 67262; Phone: (605) 698-3992; Fax: (605) 698-3999.

Spirit Lake (formerly Devils Lake) Sioux Tribe, Frank Myrick, ICWA Director, Spirit Lake Tribal Social Services, P.O. Box 356, Fort Totten, ND 58335; Phone: (701) 766-4855; Fax: (701) 766-4273.

Standing Rock Sioux Tribe, Tara Weber, ICWA Specialist, Standing Rock Sioux Tribe, Child Welfare/Social Services, P.O. Box 640, Fort Yates, ND 58538; Phone: (701) 854-3431; Fax: (701) 854-2119.

T

Three Affiliated Tribes, Jolyn Foote, ICWA Specialist, Three Affiliated Tribes, 404 Frontage Drive, New Town, ND 58763; Phone: (701) 627-4781; Fax: (701) 627-4225.

Turtle Mountain Band of Chippewa Indians, Marilyn Poitra, ICWA Coordinator, Turtle Mt. Band of Chippewa Indians, Child Welfare and Family Services, P.O. Box 900, Belcourt, ND 58316; Phone: (701) 477-5688; Fax: (701) 477-5797.

W

Winnebago Tribe of Nebraska, Celeste Honomichl, ICWA Specialist, Winnebago Tribe of Nebraska, Child and Family Services, P.O. Box 723, Winnebago, NE 68071; Phone: (402) 878-2379; Fax: (402) 878-2228.

Y

Yankton Sioux Tribe, Molette Chalmers, ICWA Specialist, BIA-Yankton Agency, P.O. Box 557, Wagner, SD 57380; Phone: (605) 384-3651; Fax: (605) 384-3876.

Southwest Region

Rob Baracker, Regional Director, P.O. Box 26567 (87125), 615 First Street, NW, Albuquerque, NM 87102; Phone: (505) 346-7105; Fax: (505) 346-7530.

Joseph Naranjo, Regional Social Worker, P.O. Box 26567 (87125), 615 First Street, NW, Albuquerque, NM 87102; Phone: (505) 346-7105; Fax: (505) 346-7530.

A

Pueblo of Acoma, Cindy Sanchez, ICWA Program, Pueblo of Acoma, P.O. Box 436, Acoma, NM 87034; Phone: (505) 552-5154/5155; Fax: (505) 552-9463.

C

Pueblo of Cochiti, Melissa Bowanie, ICWA Outreach Worker, Pueblo of Cochiti, P.O. Box 70, Cochiti, NM 87072; or Richard Pecos, Lt. Governor/Tribal Administrator; Phone: (505) 465-2244; Fax: (550) 465-1135.

I

Pueblo of Isleta, Evelyn Ankerpont, ICWA Program, Pueblo of Isleta, P.O. Box 1270, Isleta, NM 87022; Phone: (505) 869-0422; Fax: (505) 869-4236.

J

Pueblo of Jemez, Henrietta Gachupin, Social Services Program, P.O. Box 100, Jemez Pueblo, NM 87024; Phone: (505) 834-7117; Fax: (505) 834-7103.

Jicarilla Apache Nation, Patricia (Pat) Serna, Director of Mental Health & Social Services Program or Steven Stone, Child Protection Services, Jicarilla Apache Nation, P.O. Box 546, Dulce, NM 87528; Phone: (505) 759-3162; Fax: (505) 759-3588.

L

Pueblo of Laguna, Social Services Director, P.O. Box 194, Laguna, NM 87026; Phone: (505) 552-9712/9713; Fax: (505) 552-6484.

M

Mescalero Apache Tribe, Tribal Census Clerk, Mescalero Apache Tribe, P.O. Box 227, Mescalero, NM 88340; Phone: (505) 464-4494 Ext. 209; Fax: (505) 464-9191.

N

Pueblo of Nambe, Naomi Talachy, ICWA Coordinator, Pueblo of Nambe, Route 1, Box 117-BB, Nambe Pueblo, NM 87501; Phone: (505) 455-2036; Fax: (505) 455-2038.

P

Pueblo of Picuris, Debra Shemayme, ICWA Coordinator, Pueblo of Picuris, P.O. Box 127, Penasco, NM 87553; Phone: (505) 587-1003/2519; Fax: (505) 587-1071.

Pueblo of Pojoaque, Carmen Chavez-Lujan, ICWA Coordinator, Pueblo of Pojoaque, Route 11, Box 71, Santa Fe, NM 87501; Phone: (505) 455-0935/1014; Fax: (505) 455-3363.

R

Ramah Navajo School Board, Inc, Betty Nez, Director of Social Services, P.O. Box 250, Pine Hill, NM 87357; Phone: (505) 775-3221; Fax: (505) 775-3520.

S

Pueblo of San Felipe, Jeanette Trancosa, Social Services Program, Pueblo of San Felipe, P.O. Box 4339, San Felipe Pueblo, NM 87004; Phone: (505) 867-9740; Fax: (505) 867-6166.

Pueblo of San Ildefonso, Pauline Cata, ICWA Coordinator, Pueblo of San Ildefonso, Route 5, Box 315-A, Santa Fe, NM 87501; Phone: (505) 455-2273; Fax: (505) 455-7351.

Pueblo of San Juan, Jackie Calabaza, ICWA Coordinator, Pueblo of San Juan, P.O. Box 1099, San Juan Pueblo, NM 87566; Phone: (505) 852-4400; Fax: (505) 852-4820.

Pueblo of Sandia, Marianna Kennedy; Pueblo of Sandia, P.O. Box 6008 Bernalillo, NM 87004; Phone: (505) 771-5133; Fax: (505) 867-4997.

Pueblo of Santa Ana, Virginia Ross, ICWA Program, Pueblo of Santa Ana, 2 Dove Road, Bernalillo, NM 87004; Phone: (505) 867-3301; Fax: (505) 867-3395.

Pueblo of Santa Clara, Fidel Naranjo, Social Services Program, Pueblo of Santa Clara, P.O. Box 580, Espanola, NM 87532; Phone: (505) 753-0419/0313; Fax: (505) 753-0420.

Pueblo of Santo Domingo, Doris Bailon, Director of Social Services, P.O. Box 99, Santo Domingo Pueblo, NM 87052; Phone: (505) 465-0630; Fax: (505) 465-2688.

Southern Ute Indian Tribe, Dedra Millich, Director of Social Services, P.O. Box 737, Ignacio, CO 81137; Phone: (970) 563-0209; Fax: (970) 563-0334.

T

Pueblo of Taos, Carter King, Social Services Director, or Linda Lavorgna, ICWA Coordinator, Pueblo of Taos, P.O. Box 1846, Taos, NM 87571; Phone: (505) 758-7824; Fax: (505) 758-3346.

Pueblo of Tesuque, Rita Jojola-Dorame, ICWA Coordinator, Pueblo of Tesuque, Route 5, Box 360-T, Santa Fe, NM 87501; Phone: (505) 983-2667; Fax: (505) 982-2331.

U

Ute Mountain Ute Tribe (Colorado & Utah), Social Services Director, P.O. Box 309, Towaoc, CO 81334; Phone: (970) 564-5307/5310; Fax: (970) 564-5300.

Y

Ysleta del Sur Pueblo, Ignacio Rios Jr., Social Services Administrator, P.O. Box 17579-Ysleta Station, El Paso, TX 79917; Phone: (915) 859-7913 Ext. 151; Fax: (915) 859-4252.

Z

Pueblo of Zia, Gail Salas, ICWA Program, Pueblo of Zia, 135 Capital Square Drive, Zia Pueblo, NM 8703; Phone (505) 867-3304; Fax (505) 867-3308.

Pueblo of Zuni, Rebecca Quam, Social Services Program, P.O. Box 339, Zuni, NM 87327; Phone: (505) 782-2171; Fax: (505) 782-5077.

Southern Plains Region

Dan Deerinwater, Regional Director, 11/2 mile North Highway 281, P.O. Box 368, Anadarko, OK 73005; Phone: (405) 247-6673 Ext. 314; Fax: (405) 247-5611.

WCD Office Complex, Retha Murdock, Regional Social Worker, P.O. Box 368, Anadarko, Oklahoma 73005; Phone: (405) 247-6673 Ext. 257; Fax: (405) 247-2895.

A

Absentee-Shawnee Tribe of Oklahoma Indians, Governor, 2025 S. Gordon Cooper Drive, Shawnee, Oklahoma 74801; Phone: (405) 275-4030.

Alabama-Coushatta Tribe of Texas, Chairperson, Route 3, Box 640, Livingston, Texas 77351; Phone: (409) 563-4391.

Apache Tribe of Oklahoma, Chairperson, P.O. Box 1220, Anadarko, Oklahoma 73005; Phone: (405) 247-9493.

C

Caddo Indian Tribe of Oklahoma, Chairperson, P.O. Box 487, Binger, Oklahoma 73009; Phone: (405) 656-2344.

Cheyenne-Arapaho Tribes of Oklahoma, Chairperson, P.O. Box 38, Concho, Oklahoma 73022; Phone: (405) 262-0345.

Citizen Potawatomi Nation, Chairperson, 1901 S. Gordon Cooper Drive, Shawnee, Oklahoma 74801; Phone: (405) 275-3121.

Comanche Indian Tribe of Oklahoma, Chairperson, HC 32, Box 1720, Lawton, Oklahoma 73502; Phone: (580) 492-4988.

D

Delaware Tribe of Western Oklahoma, President, P.O. Box 825, Anadarko, Oklahoma 73005; Phone: (405) 247-2448.

F

Fort Sill Apache Tribe of Oklahoma, Chairperson, Route 2, Box 121, Apache, Oklahoma 73006; Phone: (580) 588-2298.

I

Iowa Tribe of Kansas, Chairperson, 2340 330th Street, White Cloud, Kansas 66094; Phone: (785) 595-3258.

Iowa Tribe of Oklahoma, Chairperson, Route 1, Box 721, Perkins, Oklahoma 74059; Phone: (405) 547-2402.

K

Kaw Nation, Chairperson, Drawer 50, Kaw City, Oklahoma 74641; Phone: (580) 269-2552.

Kickapoo Traditional Tribe of Texas, Chairperson, HC 1, Box 9700, Eagle Pass, Texas 78852; Phone: (830) 773-2105.

Kickapoo Tribe of Indians of The Kickapoo Reservation in Kansas, Chairperson, P.O. Box 271, Horton, Kansas 66439; Phone: (785) 486-2131.

Kickapoo Tribe of Oklahoma, Chairperson, P.O. Box 70, McLoud, Oklahoma 74851; Phone: (405) 964-2075.

Kiowa Indian Tribe of Oklahoma, Chairperson, P.O. Box 369, Carnegie, Oklahoma 73015; Phone: (580) 654-2300.

O

Otoe-Missouria Tribe of Oklahoma, Chairperson, 8151 Highway 177, Red Rock, Oklahoma 74651; Phone: (580) 723-4466.

P

Pawnee Indian Tribe of Oklahoma, President, P.O. Box 470, Pawnee, Oklahoma 74058; Phone: (918) 762-3621.

Ponca Tribe of Indians of Oklahoma, Chairperson, 20 White Eagle Drive, Ponca City, Oklahoma 74601; Phone: (580) 762-8104.

Prairie Band of Potawatomi Indians of Kansas, Chairperson, 16281 Q. Road, Mayetta, Kansas 66509; Phone: (785) 966-2255.

S

Sac and Fox of Missouri in Kansas, Chairman, 305 N. Main Reserve, Kansas 66434; Phone: (785) 742-7471.

Sac and Fox Nation of Oklahoma, Principal Chief, Route 2, Box 246, Stroud, Oklahoma 74079; Phone: (918) 968-3526.

Tonkawa Tribe of Oklahoma, President, P.O. Box 70, Tonkawa, Oklahoma 74653; Phone: (580) 628-2561.

Wichita and Affiliated Tribes of Oklahoma, Indian Child Welfare, Coordinator, P.O. Box 729, Anadarko, Oklahoma, 73005; Phone: (405) 247-2425.

Rocky Mountain Region

Keith Beartusk, Regional Director, 316 North 26th Street, Billings, Montana 59101; Phone: (406) 247-7943; Fax: (406) 247-7976.

Louise Reyes, Regional Social Worker, 316 North 26th Street, Billings, Montana 59101; Phone: (406) 247-7943; Fax: (406) 247-7976.

A

Assiniboine and Sioux Tribes of the Fort Peck Reservation of Montana, Chairman, P.O. Box, 1027, Poplar, Montana 59255; (406) 768-5155; Fax: (406) 768-5478.

B

Blackfeet Tribe of Montana, Indian Child Welfare Act (ICWA) Coordinator, P.O. Box 588, Browning, Montana 59417; Phone: (406) 338-7806; Fax: (406) 338-7726.

C

Chippewa Cree Tribe of the Rocky Boys Reservation of Montana, Tribal Chairman, Rural Route 1, P.O. Box 544, Box Elder, Montana 59521; Phone: (406) 395-4478; Fax: (406) 395-4497.

Crow Tribe of the Crow Reservation of Montana, Director of Tribal Social Services, P.O. Box 159, Crow Agency, Montana 59022; Phone: (406) 638-3932/5; Fax: (406) 638-3957.

E

Eastern Shoshone Tribe of the Wind River Reservation, Chairman, P.O. Box 217, Fort Washakie, Wyoming 82514; Phone: (307) 332-3040; Fax: (307) 332-4557.

G

Gros Ventre and Assiniboine Tribe of Fort Belknap Community Council, President, Rural Route 1, Box 66, Harlem, Montana 59526; Phone: (406) 353-2205; Fax: (406) 353-2797.

N

Northern Arapaho Tribe of the Wind River Reservation, Chairman, P.O. Box 217, Fort Washakie, Wyoming 82514; Phone: (406) 332-6120; Fax: (307) 332-3055.

Northern Cheyenne Tribe of the Northern Cheyenne Reservation, Director, Tribal Social Services, P.O. Box 128, Lame Deer, Montana 59043; Phone: (406) 477-8321; Fax: (406) 477-8333.

Midwest Region

Larry Morrin, Regional Director, One Federal Drive, Room 550, Fort Snelling, MN 55111-4007; Phone: (612) 713-4400; Fax (612) 713-4439.

Rosalie Clark, Regional Social Worker, One Federal Drive, Room 550, Fort Snelling, MN 55111-4007; Phone: (612) 713-4400, extension 1071; Fax (612) 713-4439.

B

Bad River Band of Lake Superior Chippewa Indians of Wisconsin, Catherine Blanchard, ICWA Coordinator, P.O. Box 39, Odanah, WI 54861; Phone: (715) 682-7111.

Bay Mills Indian Community of Michigan, Cheryl Baragwanath, ICWA Worker, Route 1, Box 313, Brimley, MI 49715; Phone: (906) 248-3241.

Boise Fort Reservation Business Committee, Yvonne King, ICWA Director, P.O. Box 16, Nett Lake, MN 55772; Phone: (218) 757-3295.

F

Fond du Lac Reservation Business Committee, Julia Jaakola, Social Services Coordinator, 105 University Road, Cloquet, MN 55720; Phone: (218) 879-4953.

Forest County Potawatomi Community of Wisconsin, Karen Ackley, ICWA Coordinator, P.O. Box 340, Crandon, WI 54520; Phone: (715) 478-2903.

G

Grand Portage Reservation Business Committee, Jan Gwuett, P.O. Box 428, Grand Portage, MN 55605; Phone: (218) 475-2277 or 2279.

Grand Traverse Band of Ottawa and Chippewa Indians of Michigan, Derek Baily, Deputy Manager, 2605 NW Bayshore Drive, Suttons Bay, MI 49682; Phone: (231) 272-3538.

H

Hannahville Indian Community of Michigan, Faye Mroczkowski, ICWA Worker, N14911 Hannahville B1 Road, Wilson, MI 49896-9728; Phone: (906) 466-2932.

Ho-Chunk Nation, ICWA Coordinator, P.O. Box 667, Black River Falls, WI 54615; Phone: (715) 284-9343.

Huron Potawatomi, Inc., Laura Spurr, Chairperson, 2221—12 Mile Road, Fulton, MI 49052; Phone: (616) 729-5151.

K

Keweenaw Bay Indian Community of The L” Anse Reservation of Michigan, Kimberly Fish, TSS Director, 107 Beartown Road, Baraga, MI 49908; Phone: (906) 353-6660.

L

Lac Courte Oreilles Band of Lake Superior Chippewa Indians of Wisconsin, Linda Hollen, Tribal Social Services Director, Route 2, Box 2700, Hayward, WI 54843; Phone: (715) 634-8934.

Lac du Flambeau Band of Lake Superior Chippewa Indians of Wisconsin, Lauren Kohen, ICWA Director, P.O. Box 67, Lac du Flambeau, WI 54538; Phone: (715) 588-3303.

Lac Vieux Desert Band of Lake Superior Chippewa Indians of Michigan, Robert White, ICWA Coordinator, P.O. Box 249—Choate Road, Watersmeet, MI 49969; Phone: (906) 358-4940.

Leech Lake Reservation Business Committee, Lillian Reese, TSS Director, Route 3, Box 100, Cass Lake, MN 56633; Phone: (218) 335-8200.

Little River Band of Ottawa Indians, Inc., Delsey Teado, ICWA Specialist, 310 Ninth Streeth, Manistee, MI 49660; Phone: (213) 398-6609.

Little Traverse Bay Band of Odawa Indians, Inc., Catherine Backus TSS Director, P.O. Box 246, 1345 US 31 N., Petoskey, MI 49770; Phone: (231) 439-3809.

Lower Sioux Indian Community of Minnesota, Angie Okeefe, TSS Director, Rural Route 1, Box 308, Morton, MN 56270; Phone: (507) 697-9108.

M

Match-E-B-Nash-She-Wish Band of Potawatomi Indians of Michigan, ICWA Coordinator, P.O. Box 218, Dorr, MI 49323; Phone: (616) 681-8830.

Menominee Indian Tribe of Wisconsin, Mary Husby, Social Services Director, P.O. Box 910, Keshena, WI 54135-0910; Phone: (715) 799-5100.

Mille Lacs Reservation Business Committee, ICWA Coordinator, HCR 67, Box 194, Onamia, MN 56350; Phone: (320) 532-4181.

Minnesota Chippewa Tribe of Minnesota, Adrienne Adkins, Human Services Director, P.O. Box 217, Cass Lake, MN 56633; Phone: (218) 335-8581.

O

Oneida Tribe of Indians of Wisconsin, ICWA Program, P.O. Box 365, Oneida, WI 54155; Phone: (920) 869-2214.

P

Pokagon Band of Potawatomi Indians of Michigan, Bill Holmes, TSS Director, 714 North Front Street, Dowagiac, MI 49047; Phone: (616) 782-8998.

Prairie Island Indian Community of Minnesota, Audrey Kohnen, President, 1158 Island Boulevard, Welch, MN 55089-9540; Phone: (612) 385-2554.

R

Red Cliff Band of Lake Superior Chippewa Indians of Wisconsin, Kim Gordon, TSS Director, P.O. Box 529, Bayfield, WI 54814; Phone: (715) 779-3700.

S

Sac & Fox Tribe of the Mississippi in Iowa, Sandra Morrison, ICWA Director, 3137 F Avenue Tama, IA 52339; Phone: (515) 484-4678.

Saginaw Chippewa Indians of MI, Kim Kequom, TSS Director, 7070 East Broadway Road, Mt. Pleasant, MI 48858; Phone: (517) 772-5700.

Sault Ste. Marie Tribe of Chippewa Indians of Michigan, ICWA Coordinator, 523 Ashmun Street, Sault Ste. Marie, MI 49783; Phone: (906) 632-5210.

Shakopee Mdewakanton Sioux Community of Minnesota, Kim Goetzinger, Social Services Director, 2330 Sioux Trail NW, Prior Lake, MN 55372; Phone: (612) 445-8900.

Sokaogon Chippewa (Mole Lake) Community of Wisconsin, Angie Bocek, ICWA Coordinator, Route 1, Box 625, Crandon, WI 54520; Phone: (715) 478-2604.

St. Croix Chippewa Indians of Wisconsin, LuAnn Kolumbus, ICWA Director, P.O. Box 287, Hertel, WI 54845; Phone: (715) 349-2195.

Stockbridge-Munsee Community of Wisconsin, ICWA Coordinator, N8476 Mo He Con Nuck Road, Bowler, WI 54416; Phone: (715) 793-4111.

U

Upper Sioux Community of Minnesota, Carrie Ross, ICWA Director, P.O. Box 418, Granite Falls, MN 56241; Phone: (612) 564-2360.

W

White Earth Reservation Business Committee, Jeri Jasken, ICWA Coordinator, P.O. Box 418, White Earth, MN 56591; Phone: (218) 983-3285.

Navajo Region

Vivian Yazza, Regional Director, 301 West Hill Street, Gallup, New Mexico 87301; Phone: (505) 863-8215; Fax: (505) 863-8342.

Marie Eastman, Grant Officer's Representative (GOR), P.O. Box 1060, Gallup, New Mexico 87305; Phone: (505) 863-8213; Fax: (505) 863-8292.

Navajo Nation, Navajo Children & Family Services, Selena Curley, Acting Director, P.O. Box 1926, Window Rock, Arizona 86515; Phone: (520) 871-6832; Fax: (520) 871-7667.

Western Region

Wayne Nordwall, Regional Director, 400 North 5th Street (85004), P.O. Box 10, Phoenix, AZ 85001; Phone: (602) 379-6600.

Evelyn S. Roanhorse, Regional Social Worker, 400 North 5th Street (85004), P.O. Box 10, Phoenix, AZ 85001; Phone: (602) 379-6785.

A

Ak Chin Indian Community Council, Chairperson, 42507 West Peters & Nall, Maricopa, Arizona 85239; Phone: (520) 568-2227.

B

Battle Mountain Band Council, Chairman, 37 Mountain View Drive, #C, Battle Mountain, Nevada 89820; Phone: (775) 635-2004.

C

Chemehuevi Indian Tribe of California, Chairperson, P.O. Box 1976, Havasu Lake, California 92363; Phone: (760) 858-4301.

Cocopah Tribe of Arizona, Chairperson, County 15th Avenue G, Somerton, Arizona 85350; Phone: (928) 627-2102.

Colorado River Tribal Council, Chairman, Route 1, Box 23-B, Parker, Arizona 85344; Phone: (928) 669-9211.

Goshute Business Council (Nevada and Utah), Chairman, P.O. Box 6104, Ibapah, Utah 84034; Phone: (435) 234-1138.

D

Duckwater Shoshone Tribal Council, Chairman, P.O. Box 140068 Duckwater, Nevada 89314; Phone: (775) 863-0227.

E

Elko Band Council, Chairperson, 511 Sunset Street, Elko, Nevada 89801; Phone: (775) 738-8889.

Ely Shoshone Tribal Council, Chairman, 16 Shoshone Circle, Ely, Nevada 89301; Phone: (775) 289-3013.

F

Fort Mojave Tribe, Attention: Social Services Director, 500 Merriman Avenue, Needles, California 92363; Phone: (760) 629-3745.

Fort McDermitt Tribal Council, Chairman, P.O. Box 457, McDermitt, Nevada 89421; Phone: (775) 532-8259.

Fort McDowell Yavapai Tribe, Attention: ICWA Coordinator, P.O. Box 17779, Fountain Hills, Arizona 85268; Phone: (480) 837-5076.

G

Gila River Pima-Maricopa Indian Community, Attention: Drake Lewis, Tribal Social Service Director, P.O. Box 97, Sacaton, Arizona 85247; Phone: (520) 562-3711, Ext. 233.

H

Havasupai Tribe of Arizona, Attention: ICWA Director, P.O. Box 10, Supai, Arizona 86435; Phone: (928) 448-2731.

Hopi Tribe of Arizona, Attention: Director of Social Services, P.O. Box 68. Second Mesa, Arizona 86043; Phone: (928) 737-2667.

Hualapai Tribe of Arizona, Attention: Director, Department of Health, P.O. Box 179, 960 Rodeo Way, Peach Springs, Arizona 86434; Phone: (928) 769-2207.

K

Kaibab Band of Paiute Indians, Attention: Director, Social Services Program, HC65 Box 2, Pipe Springs, Arizona 86022; Phone: (928) 643-6010.

L

Las Vegas Tribal Council, Chairperson, One Paiute Drive, Las Vegas, Nevada 89106; Phone: (702) 386-3926.

Lovelock Tribal Council, Chairman, P.O. Box 878, Lovelock, Nevada 89419; Phone: (775) 273-7861.

M

Moapa Band of the Paiute Indians, Moapa Business Council, Chairman, P.O. Box 340, Moapa, Nevada 89025-0340; Phone: (702) 865-2787.

P

Paiute Indian Tribe of Utah, Chairperson, 400 North Paiute Drive, Cedar City, Utah 84720-2613; Phone: (435) 586-1112.

Fallon Business Council, Chairperson, 8955 Mission Road, Fallon, Nevada 89406; Phone: (775) 423-6075.

Pascua Yaqui Tribe of Arizona, Chairman, 7474 S. Camino De Oeste, Tucson, Arizona 85746; Phone: (520) 883-5000.

Pyramid Lake Paiute Tribal Council, Chairman, P.O. Box 256, Nixon, Nevada 89424; Phone: (775) 574-1000.

Q

Quechan Tribal Council, President, P.O. Box 1899, Yuma, Arizona 85366; Phone: (760) 522-0213.

R

Reno-Sparks Indian Colony, Attention: Director of Social Services, 98 Colony Road, Reno, Nevada 89502; Phone: (775) 329-5071.

S

Salt River Pima-Maricopa Indian Community, Attention: Social Services or Juvenile Tribal Court, 10005 East Osborn Road, Scottsdale, Arizona 85256; Phone: (480) 850-8470.

San Juan Southern Paiute Tribe, Attention: Social Services Program, P.O. Box 2656, Tuba City, Arizona 86045; Phone: (928) 283-5303.

San Carlos Apache Tribe, Attention: Terry Ross, Director of Tribal Social Services, P.O. Box 0, San Carlos, Arizona 85550; Phone: (928) 475-2313/2314.

Shoshone-Paiute Tribes of the Duck Valley Reservation (Nevada), Chairman, P.O. Box 219, Owyhee, Nevada 89832; Phone: (208) 759-3100.

Skull Valley Band of Goshute Indians, Attention: ICWA Program Office, Metropolitan Plaza, Suite 110, 2480 S. Main Street, Salt Lake City, Utah 84115; Phone: (801) 474-0535.

South Fork Band Council, Chairman, HC 30, P.O. Box B-13—Lee, Spring Creek, Nevada 89815; Phone: (775) 744-4273.

Summit Lake Paiute Tribe, Chairperson, 655 Anderson Street, Winnemucca, Nevada 89445; Phone: (775) 623-5151.

T

Te-Moak Tribe of Western Shoshone Indians, Chairman, 525 Sunset Street, Elko, Nevada 89801; Phone: (775) 738-9251.

Tohono O'odham Nation, Attorney General, P.O. Box 1202, Sells, Arizona 85634; Phone: (520) 383-2221 Ext. 472-475.

Tonto Apache Tribe, Attention: ICWA Director, Tonto Reservation #30, Payson, Arizona 85541; Phone: (928) 474-5000.

U

Ute Indian Tribe of the Uintah & Ouray Reservation (Utah), Attention: ICWA Worker, P.O. Box 190, Fort Duchesne, UT 84026; Phone: (475) 722-3689.

W

Walker River Paiute Tribe, Chairman, P.O. Box 220, Schurz, Nevada 89427; Phone: (775) 773-2306.

Washoe Tribe of Nevada and California (Carson Colony, Dresslerville, Woodfords, Stewart, and Washoe Community Councils), Chairman, 919 Hwy. 395 South, Gardnerville, Nevada 89410; Phone: (775) 883-1446.

Wells Indian Colony Band Council, Chairman, P.O. Box 809, Wells, Nevada 89835; Phone: (775) 752-3045.

White Mountain Apache Tribe, Attention: Cynthia B. Ethelbah, Child Welfare Director, P.O. Box 1870, Whiteriver, Arizona 85941; Phone: (928) 338-4164.

Winnemucca Indian Colony of Nevada, Chairman, P.O. Box 1370, Winnemucca, Nevada 89446; Phone: (775) 623-1888.

Y

Yavapai-Apache Community Council, Chairman, P.O. Box 1188, Camp Verde, Arizona 86322; Phone: (928) 567-3649.

Yavapai-Prescott Tribe, Attention: Social Services Director, 530 East Merritt Street, Prescott, Arizona 86301-2038; Phone: (928) 445-0867.

Yerington Paiute Tribal Council, Attention: ICWA Director, 171 Campbell Lane, Yerington, Nevada 89447; Phone: (775) 463-5929.

Yomba Shoshone Tribe, Chairman, HC 61, Box 6275, Austin, Nevada 89310; Phone: (775) 964-2463.

Northwest Region

Stanley Speaks, Regional Director, 911 NE 11th Avenue, Portland, OR 97232; Phone: (503) 231-6702; Fax: (503) 231-2201.

Stella Charles, Regional Social Worker, 911 NE 11th Avenue, Portland, OR 97232; Phone: (503) 231-6785; Fax: (503) 231-6731.

B

Burns Paiute Tribe, Lucinda George and Phyllis Harrington, H.C. 71, 100 Pasigo Street, Burns, OR 97720; (541) 573-7312, Ext. 221.

C

Chehalis Business Council, Margert Tebo, ICWA, P.O. Box 536, Oakville, WA 98568-9616; Phone: (360) 273-5911; Fax: (360) 273-5914.

H

Hoh Tribal Business Committee, Ruth King, 2464 Lower Hoh Road, Forks, WA 98331; Phone: (360) 374-6582; Fax: (360) 374-6549.

J

Jamestown Skallam Tribal Council, Liz Mueller, 1033 Old Blyn Hwy, Sequim, WA 98382; Phone: (360) 683-1109; Fax: (360) 681-4649.

K

Kalispel Tribe of Indians, Deana Nomee, ICWA, P.O. Box 39, USK, WA 99180; Phone: (509) 445-1147; Fax: (509) 445-1705.

L

Lower Elwha Tribal Community Council, Jan Lopez, 2851 Lower Elwha Road, Port Angeles, WA 98363-9518; Phone: (360) 452-8471; Fax: (360) 452-3428.

Lummi Tribe of the Lummi Reservation, Kim Goes Behind, ICWA, 1790 Bayon Road, Bellingham, WA 98225; Phone: (360) 738-3959; Fax: (360) 671-3840.

M

Muckleshoot Indian Tribe, Donna Starr, ICWA; 39015 172nd Avenue, SE, Auburn, WA 98092; Phone: (253) 939-3311; Fax: (253) 939-5311.

N

Nez Perce Tribe, Shirley Bisbee, ICWA, P.O. Box 365, Lapwai, ID 83540; Phone: (208) 843-2463; Fax: (202) 843-7137.

Nisqually Indian Community, Jim Phonias, ICWA4820 She-Nah-Num Drive, SE, Olympia, WA 98513; Phone: (360) 456-5221; Fax: (360) 407-0318.

Nooksack Indian Tribe of Washington, Bobbie Hillaire, ICWA, P.O. Box 648, Everson, WA 98247; Phone: (360) 592-5176; Fax: (360) 996-2304.

P

Port Gamble Indian Community, Vickie Doyle, ICWA, 31912 Little Boston Road, NE, Kingston, WA 98346; Phone: (360) 297-7623; Fax: (360) 297-4452.

Puyallup Tribe, Sandy Reyes, ICWA, 2002 East 28th Street, Tacoma, WA 98404; Phone: (253) 573-7827; Fax: (253) 272-9514.

Q

Quileute Tribal Council, Margret Ward, P.O. Box 279, LaPush, WA 98350-0279; Phone: (360) 374-4325; Fax: (360) 374-6311.

Quinault Indian Nation Business Committee, Clara Hall, P.O. Box 189, Taholah, WA 98587-0189; Phone: (360) 273-8211 Ext 240; Fax (360) 267-6778.

S

Samish Indian Tribe of Washington, Chairman, P.O. Box 217, Anacortes, WA 98221; Phone: (360) 293-6404; Fax: (360) 299-0790.

Sauk-Suiattle Indian Tribe of Washington, Dana Trailor, ICWA, 5318 Chief Brown Lane, Darrington, WA 98241; Phone: (360) 436-1900; Fax: (360) 436-0242.

Shoalwater Bay Tribal Council, Lorrain Anderson (Liwac), P.O. Box 130, Tokeland, WA 98590-0130; Phone: (360) 267-6766; Fax: (360) 267-6778.

Shoshone Bannock Tribes, ICWA, Ft. Hall Business Council, C/O Tribal Attorney, P.O. Box 306, Ft. Hall, ID 83203.

Skokomish Tribal Council, Stacy Miller, N. 80 Tribal Center Road, Shelton, WA 98584-9748; Phone: (360) 426-7788; Fax: (360) 877-6585.

Spokane Tribe of Indians, Pauline Ford, ICWA, P.O. Box 540, Wellpinit, WA 99040; Phone: (509) 258-7502; Fax: (509) 258-7029.

Squaxin Island Tribal Council, Linda Charette, SE 70 Squaxin Lane, Shelton, WA 98584-9200; Phone: (360) 427-9006; Fax: (360) 427-1957.

Stillaguamish Tribe of Washington, Gary Ramey, ICWA, P.O. Box 277, Arlington, WA 98223-0277; Phone: (360) 652-7362; Fax: (360) 435-7689.

Suquamish Indian Tribe of the Port Madison Reservation, Ed Barnhart, ICWA, P.O. Box 498 Suquamish, WA 98392; Phone: (360) 598-3311; (Fax): 598-4414.

Swinomish Indians, Tracy Parker, ICWA, P.O. Box 817, LaConner, WA 98256; Phone: (360) 466-3163.

T

Tulalip Tribe, Inda Jones, ICWA, 6700 Totem Beach Road, Marysville, WA 98271; Phone: (360) 651-3284; Fax: (360) 651-3290.

U

Upper Skagit Indian Tribe of Washington, Michelle Anderson-Kamato, ICWA, 2284 Community Plaza Way, Sedro Woolley, WA 98284; Phone: (360) 856-4200; Fax: (360) 856-3537.

W

Warm Springs Tribal Court, Warm Springs Reservation, Chief Judge Lola Sohappy, P.O. Box 850, Warm Springs, OR 97761; Phone: (541) 553-3454.

Pacific Region

Ronald Jaeger, Regional Director, BIA, Federal Building, 2800 Cottage Way, Sacramento, CA 95825; Phone: (916) 978-6000; Fax: (916) 978-6055.

Kevin Sanders, Regional Social Worker, BIA-Federal Building, 2800 Cottage Way, Sacramento, CA 95825; Phone: (916) 978-6048; Fax: (916) 978-6055.

A

Agua Caliente Band of Cahuilla Indians, Executive Director, Indian Child & Family Services, P.O. Box 2269, Temecula, CA 92390; Phone: (909) 676-8832.

Alturas Rancheria, Chairperson, P.O. Box 340, Alturas, CA 96101; Phone: (530) 233-5571.

Auburn Rancheria, President, United Auburn Indian Community, 661 Newcastle Road, Suite 1, Newcastle, CA 95658; Phone: (916) 663-3720.

Augustine Band of Mission Indians, Chairperson, P.O. Box 846, Coachella, CA 92236; Phone: (760) 369-7171.

B

Barona Band of Mission Indians, Program Director, Indian Child Social Services Department, Southern Indian Health Council, Inc., P.O. Box 2128, Alpine, CA 91903; Phone: (619) 445-1188.

Bear River Band of Rohnerville Rancheria, Chairperson, 32 Bear River Drive, Loleta, CA 95551; Phone: (707) 773-1900; Fax (707) 733-1972.

Benton Paiute Reservation, Margaret Romero, Family Services Coordinator, Toiyabe Indian Health Project, 52 Tusu Lane, Bishop, CA 93514; Phone: (760) 873-6394.

Berry Creek Rancheria, Ben Jimenez, ICWA Director, 5 Tyme Way, Oroville, CA 95966; Phone: (530) 534-3859.

Big Lagoon Rancheria, Pamela Kostos, Director, Two Feathers Native American Family Services, 2355 Central Avenue Suite C, McKinleyville, CA 95519; Phone: (707) 839-1933; Fax: (707) 839-1726.

Big Pine Reservation, Margaret Romero, Family Services Coordinator, Toiyabe Health Project, 52 Tusu Lane, Bishop, CA 93514; Phone: (760) 873-6394; Fax: (760) 873-3254.

Big Sandy Rancheria, Wylena Jeff, ICWA Coordinator, P.O. Box 337, Auberry, CA 93602; Phone: (559) 855-4003; Fax: (559) 855-4129.

Big Valley Rancheria, Chairperson, 2726 Mission Rancheria Road, Lakeport, CA 95453; Phone: (707) 263-3924; Fax: (707) 263-3977.

Bishop Reservation, Margaret Romero, Family Services Coordinator, Toiyabe Health Project, 52 Tu Su Lane, Bishop, CA 93514; Phone: (760) 873-6394.

Blue Lake Rancheria, Chairperson, P.O. Box 428, Blue Lake, CA 95525; Phone: (707) 668-5101.

Bridgeport Indian Colony, Margaret Romero, Family Services Coordinator, Toiyabe Health Project, 52 Tu Su Lane, Bishop, CA 93514; Phone: (760) 873-6394.

Buena Vista Rancheria, Donnamarie Potts, Chairperson, 4650 Coalmine Road, Ione, CA 95640; Phone: (209) 274-6512.

C

Cabazon Band of Mission Indians, Christina Lambert, ICWA Rep., 84-245 Indio Springs Drive, Indio, CA 92201; Phone: (760) 342-2593.

California Valley Miwok Tribe aka Sheep Ranch Rancheria, Chairperson, 1055 Winter Court, Tracy, CA 95376; Phone: (209) 834-0197.

Cahuilla Band of Mission Indians, Executive Director, Indian Child & Family Services, P.O. Box 2269, Temecula, CA 92590; Phone: (909) 676-8832.

Campo Band of Mission Indians, Chairperson, 36190 Church Road, Suite 1, Campo, CA 91906; Phone: (619) 478-9046.

Cedarville Rancheria, Chairperson, ICWA Director, 200 S. Howard Street, Alturas, CA 96101; Phone: (530) 233-3969; Fax: (530) 233-4776.

Chicken Ranch Rancheria, Chairperson, P.O. Box 1159, Jamestown, CA 95327; Phone: (209) 984-4806; Fax: (209) 984-5606.

Cloverdale Rancheria, Marcellena Becerra, ICWA Advocate, 555 S. Cloverdale Blvd. Suite 1, Cloverdale, CA 95425; Phone: (707) 894-5775; Fax: (707) 894-5727.

Cold Springs Rancheria, Chairperson, P.O. Box 209, Tollhouse, CA 93667; Phone: (559) 855-5043; Fax: (559) 855-4445.

Colusa Rancheria, Michele Mitchum, ICWA Coordinator, 50 Wintun Road, Suite D, Colusa, CA 95932; Phone: (530) 458-8231.

Cortina Rancheria, Chairperson, P.O. Box 1630, Williams, CA 95987; Phone: (530) 473-3274.

Coyote Valley Reservation, Lorraine Laiwa, ICWA Coordinator, Indian Child Preservation Program, 684 S. Orchard Ave., Ukiah, CA 95482; Phone: (707) 463-2644.

Cuyapaipe Band of Mission Indians, Tribal Administrator, P.O. Box 2250, Alpine, CA 91903-2250; Phone: (619) 445-6315.

D

Dry Creek Rancheria, Liz DeRouen, Chairperson, 498 Moore Lane Suite B, Healdsburg, CA 95448; Phone: (707) 431-2388.

E

Elem Indian Colony, Chairperson, P.O. Box 1003, Clearlake Oaks, CA 95423; Phone: (707) 998-1570.

Elk Valley Rancheria, Chairperson, P.O. Box 1042, Crescent City, CA 95531; Phone: (707) 464-4680.

Enterprise Rancheria, Harvey Angle, Chairperson, 1940 Feather River Blvd. Suite B, Oroville, CA 95965; Phone: (530) 532-9214; Fax: (530) 532-1768.

F

Fort Bidwell Reservation, Chairperson, P.O. Box 129, Fort Bidwell, CA 96112; Phone: (530) 279-6310; Fax: (530) 279-2621.

Fort Independence Reservation, Margaret Romero, Family Services Coordinator, Toiyabe Health Project, 52 Tu Su Lane, Bishop, CA 93514; Phone: (760) 873-6394.

G

Graton Rancheria, Chairperson, P.O. Box 481, Novato, CA 94948; Phone: (707) 763-6143.

Greenville Rancheria, Dr. Marshall Gouze, Executive Director, Greenville Health Clinic, P.O. Box 279, Greenville, CA 95947; Phone: (530) 284-7990; Fax: (530) 284-6612.

Grindstone Rancheria, Gretchen Murray, Tribal Administrator, P.O. Box 63, Elk Creek, CA 95939; Phone: (530) 968-5365.

Guidiville Rancheria, Chairperson, P.O. Box 339, Talmage, CA 95481; Phone: (707) 462-3682; Fax: (707) 462-9183

H

Hoopa Valley Tribe, Director, Social Services, ICWA Program, P.O. Box 1267, Hoopa, CA 95546; Phone: (530) 625-4236.

Hopland Reservation, Lorraine Laiwa, ICWA Coordinator, Indian Child Preservation Program, 684 S. Orchard Ave., Ukiah, CA 95482; Phone: (707) 463-2644.

I

Inaja & Cosmit Band of Mission Indians, ICWA Coordinator, Human Service Department, Indian Health Council, Inc., P.O. Box 406, Pauma Valley, CA 92061; Phone: (760) 749-1410.

Ione Band of Miwok Indians, Chairperson, P.O. Box 1190, Ione, CA 95640; Phone: (209) 274-6753; Fax: (209) 274-6636.

J

Jackson Rancheria, ICWA Manager, Tuolumne Indian Child & Family Services, P.O. Box 615, Tuolumne, CA 95379; Phone: (209) 223-1935; Fax: (209) 223-5366.

Jamul Indian Village, Program Director, Indian Child Social Service Department, Southern Indian Health Council, P.O. Box 2128, Alpine, CA 91903; Phone: (619) 445-1188.

K

Karuk Tribe of California, Director, Social Services, ICWA Social Worker, 1519 S. Oregon Street, Yreka, CA 96097; Phone: (530) 493-5305 or (530) 842-9228.

L

La Jolla Band of Luiseno Indians, ICWA Coordinator, Human Service Department, Indian Health Council, Inc., P.O. Box 406, Pauma Valley, CA 92061; Phone: (760) 749-1410.

La Posta Band of Mission Indians, Program Director, Indian Child Social Services Department, Southern Indian Health Council, P.O. Box 2128, Alpine, CA 91903-2128; Phone: (619) 445-1188.

Laytonville Rancheria, Deborah Sanders, ICWA Director, P.O. Box 1239, Laytonville, CA 95454; Phone: (707) 984-6197.

Lone Pine Reservation, Margaret Romero, Family Services Coordinator, Toiyabe Indian Health Project, 52 Tu Su Lane, Bishop, CA 93514; Phone: (760) 873-6394.

Lower Lake Rancheria, Chairperson, 1083 Vine Street #137, Healdsburg, CA 95448; Phone: (707) 431-1908.

Los Coyotes Band of Mission Indians, ICWA Coordinator, Human Services Department, Indian Health Council, Inc., P.O. Box 406, Pauma Valley, CA 92061; Phone: (760) 749-1410.

Lytton Rancheria, Margie Mejia, Chairperson, 1250 Coddingtown Center, Suite 1, Santa Rosa, CA 95401-3515; Phone: (707) 575-5917; Fax: (707) 575-6974.

M

Manchester-Point Arena Rancheria, Lorraine Laiwa, ICWA Coordinator, Indian Child Preservation Program, 684 S. Orchard Avenue, Ukiah, CA 95482; Phone: (707) 463-2644.

Manzanita Band of Mission Indians, Chairperson, P.O. Box 1302, Boulevard, CA 91905; Phone: (619) 766-4930.

Mechoopda Indian Tribe of the Chico Rancheria, Cindy Phillips, Tribal Administrator, 1907-F Mangrove Avenue, Chico, CA 95926; Phone: (530) 899-8922; Fax: (530) 899-8517.

Mesa Grande Band of Mission Indians, ICWA Coordinator, Human Services Department, Indian Health Council, Inc., P.O. Box 460, Pauma Valley, CA 92061; Phone: (760) 749-1410.

Middletown Rancheria, Chairperson, P.O. Box 1035, Middletown, CA 95461; Phone: (707) 987-3670.

Mooretown Rancheria, Francine Mckinley, ICWA Coordinator, 1 Alverda Drive, Oroville, CA 95966; Phone: (530) 533-3625; Fax: (530) 533-3680.

Morongo Band of Mission Indians, ICWA Representative, 11581 Potrero Road, Banning, CA 92220; Phone: (909) 849-4697.

N

North Fork Rancheria, Delores Roberts, Chairperson, P.O. Box 929, North Fork, CA 93643; Phone: (559) 877-2461; Fax: (559) 877-2467.

P

Pala Band of Mission Indians, Robert Smith, Chairperson, P.O. Box 50, Pala, CA 92059; Phone: (760) 742-3784.

Paskenta Band of Nomlaki Indians, Everett Freeman, Chair, P.O. Box 398, Orland, CA 95963; Phone: (530) 865-3119; Fax: (530) 865-2345.

Pauma & Yuima Band of Mission Indians, ICWA Coordinator, Human Services Department, Indian Health Council, Inc., P.O. Box 406, Pauma Valley, CA 92061; Phone: (760) 749-1410.

Pechanga Band of Mission Indians, Mark Macarro, Spokesman, P.O. Box 1477, Temecula, CA 92593; Phone: (909) 676-2768.

Picayune Rancheria of Chukchansi Indians, Chairperson, 46575 Road 417, Coarsegold, CA 93614; Phone: (559) 683-6633.

Pinoleville Reservation, Chairperson, 367 North State Street, Suite 204, Ukiah, CA 95482; Phone: (707) 463-1454.

Pit River Reservation, ICWA Director, 37014 Main Street, Burney, CA 96013; Phone: (530) 335-5421 or 866-335-5530; Fax: (530) 335-3966.

Potter Valley Rancheria, Chairperson, Tribal Council, 417 D Talmage Road, Ukiah, CA 95482; Phone: (707) 468-7494.

Q

Quartz Valley Indian Reservation, ICWA Director, P.O. Box 24, Fort Jones, CA 96032; Phone: (530) 468-5937; Fax: (530) 468-2491.

R

Ramona Band of Mission Indians, Executive Director, Indian Child & Family Services, P.O. Box 2269, Temecula, CA 92590; Phone: (909) 676-8832.

Redding Rancheria, Robin Bailey-Boyle, Director, Social Services, 2000 Rancheria Road, Redding, CA 96001-5528; Phone: (530) 225-8979.

Redwood Valley Reservation, Mary Navarez, ICWA Coordinator, 3250 Road 1, Redwood Valley, CA 95470; Phone: (707) 485-0361; Fax: (707) 485-5726.

Resighini Rancheria, Chairperson, P.O. Box 529, Klamath, CA 95548; Phone: (707) 482-2431; Fax: (707) 482-3425.

Rincon Band of Mission Indians, ICWA Coordinator, Human Services Department, Indian Health Council, P.O. Box 406, Pauma Valley, CA 92061; Phone: (760) 749-1410.

Robinson Rancheria, Chairperson, 1545 E. Highway 20, Nice, CA 95464; Phone: (707) 275-0527.

Round Valley Reservation, Chairperson, P.O. Box 448, Covelo, CA 95428; Phone: (707) 983-6126; Fax: (707) 983-6128.

Rumsey Rancheria, Paula Lorenzo, Chairperson, P.O. Box 18, Brooks, CA 95606; Phone: (530) 796-3400.

S

San Manuel Band of Mission Indians, Chairperson, P.O. Box 266, Patton, CA 92369; Phone: (909) 864-8933.

San Pasqual Band of Diegueno Indians, ICWA Coordinator, Human Services Department, Indian Health Council, Inc., P.O. Box 406, Pauma Valley, CA 92061; Phone: (760) 749-1410.

Santa Rosa Band of Mission Indians, ICWA Representative, P.O. Box 390611, Anza, CA 92539; Phone: (909) 763-5140.

Santa Rosa Rancheria, Susan Weese, ICWA Coordinator, P.O. Box 8, Lemoore, CA 93245-0008; Phone: (209) 924-1278.

Santa Ynez Band of Mission Indians, ICWA Coordinator, P.O. Box 909, Santa Ynez, CA 93460; Phone: (805) 688-7070.

Santa Ysabel Band of Mission Indians, ICWA Coordinator, Human Services Department, Indian Health Council, Inc., P.O. Box 406, Pauma Valley, CA 92061; Phone: (760) 749-1410.

Scotts Valley Rancheria, Chairperson, 149 N Main Street, Suite 200, Lakeport, CA 95453; (707) 263-4771; Fax: (707) 263-4773.

Sherwood Valley Rancheria, Chairperson, 190 Sherwood Hill Drive, Willits, CA 95490; Phone: (707) 459-9690; Fax: (707) 459-6936.

Shingle Springs Rancheria, Chairperson, P.O. Box 1340, Shingle Springs, CA 95682; Phone: (530) 676-8010.

Smith River Rancheria, Elvira Rodriquez, ICWA Director, 250 N Indian Road, Smith River, CA 95567-9525; Phone: (707) 487-9255; Fax: (707) 487-0930.

Soboba Band of Luiseno Indians, Project Manager, P.O. Box 487, San Jacinto, CA 92581; Phone: (909) 654-2765.

Stewarts Point Rancheria, Liz DeRouen, Indian Child and Family Preservation Program, 1420 C. Guernville Road, Suite 4, Santa Rosa, CA 95401; Phone: (707) 591-0580 Ext. 203; Fax: (707) 591-0583.

Susanville Indian Rancheria, Chairperson, ICWA Director, P.O. Drawer U, Susanville, CA 96130; Phone: (530) 251-5205.

Sycuan Band of Mission Indians, Program Director, Indian Child Social Services Department, Southern Indian Health Council, P.O. Box 2128, Alpine, CA 91903-2128; Phone: (619) 445-1188.

T

Table Bluff Reservation, Elsie McLaughlin-Feliz, Director, Social Services, 1000 Wiyot Drive, Loleta, CA 95551; Phone: (707) 733-5055; Fax: (707) 733-5601.

Table Mountain Rancheria, Chairperson, P.O. Box 410, Friant, CA 93626-0410; Phone: (559) 822-2587; Fax: (559) 822-2693.

Timbi-sha Shoshone Tribe, Margaret Romero, Family Services Coordinator, Toiyabe Indian Health Project, 52 Tu Su Lane, Bishop, CA 93514; Phone: (760) 786-2374.

Torres-Martinez Desert Cahuilla Indians, ICWA Representative, P.O. Box 1160, Thermal, CA 92274; Phone: (760) 397-0300.

Trinidad Rancheria, Chairperson, P.O. Box 630, Trinidad, CA 95570; Phone: (707) 677-0211; Fax: (707) 677-3921.

Tule River Reservation, Louise Cornell, ICWA Director, P.O. Box 589, Porterville, CA 93258; Phone: (559) 781-4271.

Tuolumne Rancheria, Chairperson, P.O. Box 699, Tuolumne, CA 95379; Phone: (209) 928-3475.

Twenty-Nine Palms Band of Mission Indians, Executive Director, Indian Child & Family Services, P.O. Box 2269, Temecula, CA 92590; Phone: (909) 676-8832.

U

Upper Lake Rancheria, Chairperson, P.O. Box 516, Upper Lake, CA 95485; Phone: (707) 275-0737.

V

Viejas (Baron Long) Band of Mission Indians, Program Director, Indian Child Social Services Department, Southern Indian Health Council, P.O. Box 2128, Alpine, CA 91903-2128; Phone: (619) 445-1188.

Y

Yurok Tribe, Director, Social Services, ICWA Coordinator, 1034 Sixth Street, Eureka, CA 95501; Phone: (707) 444-0433; Fax: (707) 444-0437.

[FR Doc. 01-31337 Filed 12-19-01; 8:45 am]

BILLING CODE 4310-02-P